DEPARTMENT OF THE TREASURY

Alcohol and Tobacco Tax and Trade Bureau

27 CFR Parts 1, 4, 5, 6, 8, 9, 10, 11, 13, 16, 17, 18, 19, 20, 21, 22, 24, 25, 26, 27, 28, 29, 30, 31, 40, 41, 44, 45, 46, 53, 70, 71, and 72

[Docket No. TTB-2024-0006; T.D. TTB-196]

RIN 1513-AB93

Technical Corrections to the TTB Regulations

AGENCY: Alcohol and Tobacco Tax and Trade Bureau, Treasury.

ACTION: Final rule; Treasury decision.

SUMMARY: In this final rule, the Alcohol and Tobacco Tax and Trade Bureau (TTB) is amending its regulations to make miscellaneous non-substantive corrections to its regulations. These include correcting grammatical, spelling, and typographical errors; correcting or updating statutory authority citations, regulatory cross-references, and information collection control and TTB form numbers; updating references to publications and agency names and organizational structures; updating mailing, delivery, and website addresses; and revising certain gender exclusive pronouns. The technical amendments described in this document do not add or change any regulatory, recordkeeping, or reporting requirement or change TTB's interpretation of any regulation.

DATES: Effective December 6, 2024.

FOR FURTHER INFORMATION CONTACT: Michael D. Hoover, Regulations and Rulings Division, Alcohol and Tobacco Tax and Trade Bureau, 1310 G Street NW, Box 12, Washington, DC 20005; phone 202-453-1039, ext. 135.

SUPPLEMENTARY INFORMATION: Due to the number and non-substantive nature of the technical corrections made in this document, not all individual amendments are discussed below in this document's preamble, but all changes are described in the regulatory text section further below.

General Description of Technical Amendments

The Alcohol and Tobacco Tax and Trade Bureau (TTB) periodically makes non-substantive technical corrections to its regulations, which are contained in 27 CFR chapter I. The technical amendments described in this document do not add any new or change any existing TTB regulatory requirement, and the described amendments do not change TTB's interpretation of any regulation. Additionally, the described amendments do not add any new or change any existing recordkeeping, reporting, or labeling requirement to the TTB regulations, nor do they change any burden associated with such requirements.

In general, throughout its regulations, TTB is correcting grammatical, spelling, and typographical errors; correcting or updating statutory authority citations, regulatory cross-references, and TTB form numbers; updating Office of Management and Budget (OMB) control numbers for existing TTB information collections; updating references to publications and agency names and organizational structures; and updating mailing, delivery, and website addresses.

Also, in light of Treasury Department policy, TTB is replacing certain gender exclusive pronouns, such as “he” and “his,” with specific references to official titles or positions, such as “the Secretary,” or with gender inclusive or neutral pronouns or phrases, such as “their,” “he or she,” or “her or his.” In particular, TTB is revising gender exclusive references to the Secretary of the Treasury, the TTB Administrator, and certain other government officials. However, given the large number of gender exclusive pronouns in some parts of its regulations that refer to TTB officers, industry members, or members of the public, TTB will make further similar amendments in future rulemaking documents.

With regard to updating statutory authority citations, TTB is primarily revising the general statutory authority citations for the regulations contained in 27 CFR parts 20, 29, 44, 45, 46, and 70 to add a reference to 26 U.S.C. 6109, which is the section of the Internal Revenue Code (IRC) that authorizes the collection of identifying numbers such as employer identification numbers from persons required to file returns, statements, or other documents. The addition of 26 U.S.C. 6109 to the statutory authority citation lists for those CFR parts merely corrects those lists and does not add or change any requirement to provide TTB with identifying numbers.

Other Technical Amendments

In addition to the general technical corrections noted above, TTB is making other unique technical amendments in specific parts of 27 CFR chapter I, as described below.

Part 4, Labeling and Advertising of Wine

In 27 CFR 4.10, Meaning of terms, TTB is correcting typographical errors in the definitions of “pure condensed must” and “sugar.”

Part 9, American Viticultural Areas

In 27 CFR 9.11(b), TTB is updating the postal mail and hand-delivery addresses for the submission of American viticultural area (AVA) petitions. TTB is also correcting typographical and other unintended errors in the boundary descriptions of several AVAs. These corrections do not change the intended boundary of any existing AVA, nor do they add or remove any acreage from any established AVA. Among those specific boundary corrections are three for the Eagle Foothills AVA as described in 27 CFR 9.252—in paragraph (c)(2), the phrase “the western boundary of sections 31 and 30 to the northwest corner of section 31,” is corrected to read “the western boundary of section 31 to the southwest corner of section 30;” in paragraph (c)(3), “section 31” is corrected to read “section 30;” and, in paragraph (c)(9), “3,400-foor” is corrected to read “3,400-foot.”

Part 19, Distilled Spirits Plants

Among other corrections in part 19, TTB is updating cross-references to 27 CFR part 5, Labeling and Advertising of Distilled Spirits, contained in that part in response to the publication of T.D. TTB-176, Modernization of the Labeling and Advertising Regulations for Distilled Spirits and Malt Beverages, published in the Federal Register of February 9, 2022, at 87 FR 7526. While T.D. TTB-176 revised part 5 in its entirety, that final rule inadvertently did not update the cross-references to that part contained in part 19. As such, this document updates the relevant cross-references contained in part 19 to match the current part 5 subpart designations and section numbers.

Part 21, Formulas for Denatured Alcohol and Rum

In 27 CFR 21.151, TTB is correcting an inadvertent error made in a final rule published in 2016 to amend the regulations concerning denatured alcohol and products made with industrial alcohol. See T.D. TTB-140, published in the Federal Register on August 30, 2016, at 81 FR 59445. In that final rule, TTB removed certain obsolete special denatured alcohol (S.D.A.) formulas from the regulations, including Formula No. 27-B, which, at the time, was described in 27 CFR 21.54. As a result of that formula's removal, TTB removed all references to S.D.A. Formula No. 27-B from the table contained in § 21.151, List of denaturants authorized for denatured spirits, including its listing as the only approved formula for “Green soap, U.S.P.” However, in T.D. TTB-140, TTB inadvertently failed to include an amendatory instruction to remove the entire entry for “Green soap, U.S.P.” from the approved formulas table. Therefore, TTB is removing the remaining portion of that obsolete entry.

Part 24, Wine

TTB recently published a final rule amending certain of its regulations pertaining to the production of wine in 27 CFR part 24 to add to the list of materials and processes authorized for the treatment of wine and of the juice from which wine is made, and to expand the authorized uses of certain materials already authorized under the regulations. See T.D. TTB-185, published in the Federal Register on August 24, 2022, at 87 FR 51880. That final rule contained an inadvertent error in the amended regulatory text of 27 CFR 24.250. As explained in that final rule's related prior notice of proposed rulemaking (Notice No. 164, published in the Federal Register on November 22, 2016, at 81 FR 83752) and in the final rule, TTB intended to make a technical change to amend § 24.250, Application for use of new treating material or process, by revising paragraph (b)(4) to state that an application to use a new treating material or process must include documentary evidence from the FDA that the material is consistent with the food additive requirements under the Federal Food, Drug, and Cosmetic Act for its intended purpose in the amounts proposed for the particular treatment contemplated. This differs from the original regulatory text in that it does not require documentary evidence that the FDA has “approved” the use of the material. However, the amendatory instruction for § 24.250 in the final rule contained an inadvertent error that caused all of paragraph (b) to be removed and replaced by the text that was only intended to amend paragraph (b)(4). TTB is correcting § 24.250 by restoring the previous text of paragraph (b) and by amending only the text of paragraph (b)(4) as intended.

TTB also is amending 27 CFR 24.270, which sets forth the Federal excise tax rates on wine to reflect the statutory increase, from 14 percent to 16 percent, in the maximum alcohol by volume for the still wine tax class at 26 U.S.C 5041(b)(1) and in the minimum alcohol by volume for the still wine tax class at 26 U.S.C. 5041(b)(2). TTB is taking this action in response to the Taxpayer Certainty and Disaster Tax Relief Act of 2020 (see Division EE of the Consolidated Appropriations Act of 2021 (Pub. L. 116-260)), which made permanent the temporary provisions of the Craft Beverage Modernization Act contained within the Tax Cuts and Jobs Act of 2017 (Pub. L. 115-97).

TTB is correcting 27 CFR 24.310, Taxpaid removals from bond record, to include a reference to allowing proprietors to record the tax class of wine removed from bond, in lieu of recording the alcohol content of the wine. TTB amended its regulations regarding certain wine records in 1990 (see T.D. ATF-299, published in the Federal Register of June 19, 1990, at 55 FR 24974), including 27 CFR 24.309, Transfer in bond record, and 27 CFR 24.311, Taxpaid wine record, to provide that option, but inadvertently did not include a similar change to § 24.310. This correction addresses that omission.

Part 28, Exportation of Alcohol

In 27 CFR 28.11, Meaning of terms, TTB is revising the definition of “Customs officer” to be consistent with the wording of that term's definition in other parts of 27 CFR chapter I. This revision does not change any part 28 regulatory requirement.

TTB is correcting 27 CFR 28.148, Brewer's report, to include a reference to form TTB F 5130.26, Quarterly Brewer's Report of Operations, in addition to the existing reference to form TTB F 5130.9, Brewer's Report of Operations, as a form certain small brewers may use for reporting, including the reporting of removals of beer or beer concentrate for purposes of exportation, use of supplies on vessels and aircraft, or transfer to a Foreign Trade Zone (FTZ). Section 28.148 requires that brewers keep records and include in their operations reporting the quantity of beer or beer concentrate removed for such purposes, and elsewhere in the TTB regulations certain small brewers are authorized to use either form TTB F 5130.26 or form TTB F 5130.9, as appropriate, for such reporting. See 27 CFR 25.297. In T.D. TTB-123, published in the Federal Register on September 30, 2014, at 79 FR 58674, TTB amended § 25.297 to allow certain small brewers to report their operations reports on a quarterly basis (rather than monthly) using either form TTB F 5130.9 or form TTB F 5130.26. However, in that final rule, TTB inadvertently did not make a corresponding amendment to § 28.148. This amendment to § 28.148 does not change that section's reporting requirement or burden as it merely corrects that section to provide that brewers authorized to submit quarterly operations reports may choose to use either form TTB F 5130.9 or form TTB F 5130.26 to do so.

Part 29, Stills and Miscellaneous Regulations

TTB is restoring “condenser” to the list of terms defined in part 29, subpart C, Stills, at 27 CFR 29.45, as that definition appears to have been inadvertently removed from that list in 2001. The regulations addressing stills appeared in 27 CFR part 170 prior to a reorganization of the regulations in 2001. TTB's predecessor agency, the Bureau of Alcohol, Tobacco, and Firearms (ATF), published T.D. ATF-439 in the Federal Register on February 2, 2001, at 66 FR 8768, amending certain definitions and regulations in part 170, including some definitions in 27 CFR 170.45, which is now 27 CFR 29.45. See 66 FR 8768, 8770. That final rule did not amend or affect the definition of “condenser” but, in the 2001 edition of Title 27 of the Code of Federal Regulations published following the issuance of the final rule, the term “condenser” no longer appeared in the list of definitions at 27 CFR 170.45. ATF then redesignated part 170 as part 29 in T.D. ATF-462, published in the Federal Register on August 15, 2001, at 66 FR 42735, which recodified § 170.45 as 27 CFR 29.45. See 66 FR 42735, 42737. This correction addresses the inadvertent removal of the definition of “condenser” from the regulations.

Part 30, Gauging Manual

TTB is adding a section to part 30, Gauging Manual, at 27 CFR 30.3 to provide the public with information on how to obtain a copy of the delegation order regarding the assignment of the TTB Administrator's regulatory authorities in part 30 to other TTB officers. These delegations of authority are set forth in TTB Order 1135.30, Delegation of the Administrator's Authorities in 27 CFR part 30, Gauging Manual, which is referenced in the definition of “Appropriate TTB officer” in 27 CFR 30.11, but additional information on accessing the delegation order through the TTB website or by mail is not currently included in the regulations. Similar sections regarding TTB delegation orders are present in other parts of 27 CFR chapter I that have related delegation orders and were generally added to that chapter in 2006 through T.D. TTB-44, Administrative Changes to Alcohol, Tobacco and Firearms Regulations Due to the Homeland Security Act of 2002, published by TTB in the Federal Register on April 4, 2006, at 71 FR 16918. A section of this type was inadvertently not included for part 30, and this amendment makes part 30 consistent with those other parts. The added section is merely informational, and it imposes no new regulatory or information collection requirements on regulated industry members.

Part 40, Manufacture of Tobacco Products, Cigarette Papers and Tubes, and Processed Tobacco

In 27 CFR 40.22, TTB is removing the last sentence of paragraph (b)(1), which provides that TTB may publish its constructive price determinations for large cigars if TTB finds that such public disclosure is necessary. TTB has determined that this provision is inconsistent with the taxpayer confidentiality provisions of the Internal Revenue Code at 26 U.S.C. 6103 which prohibit public disclosure of such tax-related information. For that reason, neither TTB nor its predecessor agency, ATF, have published a constructive price determination made under § 40.22(b).

TTB is updating the text of 27 CFR 40.491(b)(2) to be consistent with the amendments made to 27 CFR 40.522 in T.D. TTB-104, which implemented requirements from the Children's Health Insurance Program Reauthorization Act of 2009 (CHIPRA); see 77 FR 37287, June 21, 2012. The correction to § 40.491(b)(2) makes that section consistent with § 40.522(d)(3) as amended by T.D. TTB-104, which allows a manufacturer of tobacco products who removes processed tobacco for any of the purposes listed in § 40.72(b)(2) to not report such removals on their tobacco operations report, form TTB F 5250.2 (while keeping records of such removals pursuant to § 40.521).

Part 44, Exportation of Tobacco Products and Cigarette Papers and Tubes, Without Payment of Tax, or With Drawback of Tax

In 27 CFR 44.11, TTB is adding a definition of “customs officer” for informational purposes as that term is used throughout part 44. In §§ 44.122 and 44.129, TTB is removing references to Treasury Department Circular 154, which concerned the acceptance of government obligations in lieu of bonds, since the Department no longer publishes that circular. Instead, those sections will refer to the Treasury Department regulations contained in 31 CFR part 225, Acceptance of Bonds Secured by Government Obligations in Lieu of Bonds with Sureties.

Part 71, Rules of Practice in Permit Proceedings

In 27 CFR part 71, which concerns TTB's rules of practice in permit proceedings, TTB is amending the general statutory authority citation by adding a citation to the Administrative Procedure Act (5 U.S.C. 551-559). In addition, TTB is adding 26 U.S.C. 5171 to the part's general statutory authority citation because that section of the IRC concerns the establishment of, and permits for, distilled spirits plants. These additions are merely informational in nature, and do not affect or change TTB's interpretation of any regulatory or information collection requirement contained in part 71.

In 27 CFR 71.96, which concerns the disqualification of administrative law judges, TTB is revising that section to remove gender-specific pronouns but the intent of the regulation is unchanged.

In 27 CFR 71.97, which lists the power of administrative law judges in TTB-related matters, TTB is correcting that section to state that those judges make “initial decisions” in suspension, revocation, or annulment proceedings against TTB-issued permits rather than final decisions. This correction makes § 71.97(h) consistent with 27 CFR 71.78 and 71.79. TTB believes that a 1985 revision of § 71.97(h) inadvertently dropped the words “initial decisions” from that paragraph. See T.D. ATF-199, published in the Federal Register on March 6, 1985, at 50 FR 9152, 9197. In addition, TTB is correcting the paragraph formatting of § 71.97 to conform that section to current CFR format requirements; the text of section is unchanged except for the correction to paragraph (h) noted above.

Finally, in 27 CFR 71.116, which concerns the TTB Administrator's review of application proceedings, TTB is updating references to the “Under Secretary of the Treasury” with references to “Assistant Secretary for Tax Policy.” The current text refers to the Under Secretary for Enforcement, a position that no longer exists within the Department of the Treasury, and the duties of that former position relevant to TTB have been delegated to the Assistant Secretary for Tax Policy. TTB is also updating gender exclusive references in this section and is removing the statutory authority statement at the end of the section as it cites several firearms-related laws that no longer apply to TTB. The Bureau believes that the general statutory authorities cited for part 71, as amended in this document, support the regulatory provisions of § 71.116, and, as such, there is no need for a separate section-level authority citation. As with the other technical amendments in this document, these technical amendments do not affect the requirements of that section.

Regulatory Analysis and Notices

Regulatory Flexibility Act

Because no notice of proposed rulemaking is required, the provisions of the Regulatory Flexibility Act (5 U.S.C. 601 et seq.) do not apply.

Executive Order 12866

It has been determined that this technical correction final rule is not a significant regulatory action as defined in Executive Order 12866 of September 30, 1993. Therefore, a regulatory assessment is not necessary.

Paperwork Reduction Act

The Office of Management and Budget (OMB) has previously reviewed, approved, and assigned control numbers to the collections of information contained in certain regulations amended in this final rule in accordance with the Paperwork Reduction Act of 1995 (44 U.S.C. 3507). An agency may not conduct or sponsor, and a person is not required to respond to, a collection of information unless it displays a valid control number assigned by OMB. The technical corrections contained in this document do not add any new or affect the existing requirements or estimated burden of any established TTB information collection, recordkeeping, or labeling requirement.

Inapplicability of Prior Notice and Public Comment Procedures and Delayed Effective Date

TTB is issuing this final rule without prior notice and opportunity for public comment pursuant to authority under section 4(a) of the Administrative Procedure Act, as amended (APA) (5 U.S.C. 553(b)(B)). That provision authorizes an agency to issue a rule without prior notice when the agency for good cause finds that those procedures are “impracticable, unnecessary, or contrary to the public interest.” In this final rule, TTB is merely making technical corrections to the TTB regulations, which do not change the requirements or TTB's interpretation of any regulation and do not change any TTB information collection, recordkeeping, or labeling requirement. Therefore, TTB finds that prior notice and opportunity for comment is unnecessary.

List of Subjects

27 CFR Part 1

Administrative practice and procedure, Alcohol and alcoholic beverages.

27 CFR Part 4

Advertising, Alcohol and alcoholic beverages, Exports, Imports, Labeling, Packaging and containers, Reporting and recordkeeping requirements, Wine.

27 CFR Part 5

Advertising, Alcohol and alcoholic beverages, Exports, Imports, Labeling, Packaging and containers, Reporting and recordkeeping requirements.

27 CFR Part 6

Alcohol and alcoholic beverages, Trade practices.

27 CFR Part 8

Alcohol and alcoholic beverages, Trade practices.

27 CFR Part 9

Wine.

27 CFR Part 10

Alcohol and alcoholic beverages, Trade practices.

27 CFR Part 11

Alcohol and alcoholic beverages, Trade practices.

27 CFR Part 13

Administrative practice and procedure, Alcohol and alcoholic beverages, Labeling.

27 CFR Part 16

Alcohol and alcoholic beverages, Consumer protection, Health, Labeling, Penalties.

27 CFR Part 17

Administrative practice and procedure, Claims, Cosmetics, Drugs, Excise taxes, Exports, Imports, Liquors, Packaging and containers, Reporting and recordkeeping requirements, Spices and flavorings, Surety bonds.

27 CFR Part 18

Alcohol and alcoholic beverages, Fruits, Reporting and recordkeeping requirements, Spices and flavorings.

27 CFR Part 19

Alcohol and alcoholic beverages, Claims, Excise taxes, Exports, Gasohol, Imports, Labeling, Packaging and containers, Reporting and recordkeeping requirements, Research, Security measures, Stills, Surety bonds, Vinegar, Warehouses.

27 CFR Part 20

Alcohol and alcoholic beverages, Claims, Cosmetics, Excise taxes, Labeling, Packaging and containers, Reporting and recordkeeping requirements, Surety bonds.

27 CFR Part 21

Alcohol and alcoholic beverages.

27 CFR Part 22

Alcohol and alcoholic beverages, Excise taxes, Reporting and recordkeeping requirements, Surety bonds.

27 CFR Part 24

Claims, Excise taxes, Exports, Labeling, Liquors, Packaging and containers, Reporting and recordkeeping requirements, Surety bonds, Wine.

27 CFR Part 25

Beer, Claims, Excise taxes, Exports, Labeling, Packaging and containers, Reporting and recordkeeping requirements, Surety bonds.

27 CFR Part 26

Alcohol and alcoholic beverages, Claims, Excise taxes, Exports, Imports, Packaging and containers, Puerto Rico, Reporting and recordkeeping requirements, Surety bonds, Virgin Islands.

27 CFR Part 27

Alcohol and alcoholic beverages, Excise taxes, Exports, Imports, Labeling, Packaging and containers, Reporting and recordkeeping requirements, Surety bonds.

27 CFR Part 28

Aircraft, Alcohol and alcoholic beverages, Armed forces, Claims, Excise taxes, Exports, Foreign trade zones, Labeling, Packaging and containers, Reporting and recordkeeping requirements, Surety bonds, Vessels, Warehouses.

27 CFR Part 29

Alcohol and alcoholic beverages, Reporting and recordkeeping requirements, Stills.

27 CFR Part 30

Liquors, Scientific equipment.

27 CFR Part 31

Alcohol and alcoholic beverages, Reporting and recordkeeping requirements.

27 CFR Part 40

Cigars and cigarettes, Claims, Excise taxes, Imports, Labeling, Packaging and containers, Reporting and recordkeeping requirements, Surety bonds, Tobacco.

27 CFR Part 41

Cigars and cigarettes, Claims, Excise taxes, Imports, Labeling, Packaging and containers, Puerto Rico, Reporting and recordkeeping requirements, Surety bonds, Tobacco, Virgin Islands, Warehouses.

27 CFR Part 44

Aircraft, Armed forces, Cigars and cigarettes, Claims, Excise taxes, Exports, Foreign trade zones, Labeling, Packaging and containers, Reporting and recordkeeping requirements, Surety bonds, Tobacco, Vessels, Warehouses.

27 CFR Part 45

Authority delegations (Government agencies), Cigars and cigarettes, Excise taxes, Labeling, Packaging and containers, Reporting and recordkeeping requirements, Tobacco.

27 CFR Part 46

Cigars and cigarettes, Claims, Excise taxes, Packaging and containers, Penalties, Reporting and recordkeeping requirements, Seizures and forfeitures, Surety bonds, Tobacco.

27 CFR Part 53

Arms and munitions, Excise taxes, Exports, Imports, Reporting and recordkeeping requirements.

27 CFR Part 70

Administrative practice and procedure, Claims, Excise taxes, Freedom of information, Penalties, Reporting and recordkeeping requirements, Surety bonds.

27 CFR Part 71

Administrative practice and procedure, Alcohol and alcoholic beverages, Tobacco.

27 CFR Part 72

Administrative practice and procedure, Alcohol and alcoholic beverages, Arms and munitions, Seizures and forfeitures, Surety bonds, Tobacco.

Amendments to the Regulations

For the reasons discussed in the preamble, 27 CFR chapter I is amended as follows:

PART 1—BASIC PERMIT REQUIREMENTS UNDER THE FEDERAL ALCOHOL ADMINISTRATION ACT, NONINDUSTRIAL USE OF DISTILLED SPIRITS AND WINE, BULK SALES AND BOTTLING OF DISTILLED SPIRITS

1. The authority citation for part 1 continues to read as follows:

Authority: 27 U.S.C. 203, 204, 206, 211 unless otherwise noted.

§ § 1.3 and 1.4 [Amended]

2. In the following table, for each section indicated in the left column, remove the text indicated in the middle column from wherever it appears in the section and add in its place, the text indicated in the right column:

Section | Remove | Add
1.3(b) | http://www.ttb.gov | https://www.ttb.gov.
1.3(b) | Room 1516 | Room 8970.
1.4 | http://www.ttb.gov | https://www.ttb.gov.
1.4 | Room 1516 | Room 8970.

PART 4—LABELING AND ADVERTISING OF WINE

3. The authority citation for part 4 continues to read as follows:

Authority: 27 U.S.C. 205, unless otherwise noted.

§ § 4.3, 4.4, 4.7, 4.20, 4.25, 4.32b, 4.33, and 4.39 [Amended]

4. In the following table, for each section indicated in the left column, remove the text indicated in the middle column from wherever it appears in the section and add in its place the text indicated in the right column:

Section | Remove | Add
4.3(b) | http://www.ttb.gov | https://www.ttb.gov.
4.3(b) | Room 1516 | Room 8970.
4.4 | Administator's | Administrator's.
4.4 | http://www.ttb.gov | https://www.ttb.gov.
4.4 | Room 1516 | Room 8970.
4.7 introductory text, in the first sentence | FAA Act | Federal Alcohol Administration Act (FAA Act).
4.20, in the first sentence | the act | the Federal Alcohol Administration Act.
4.25(e)(3)(i) | part 9 of this title | part 9 of this chapter.
4.32b(d)(1) | http://www.ttb.gov | https://www.ttb.gov.
4.33(c) | or his predecessors | or their predecessors.
4.39(a)(6), in the last sentence | him or his predecessors | that person or their predecessors.

5. Section 4.10 is amended by removing the definition of “Act” and revising the definitions of “Pure condensed must” and “Sugar”.

The revisions read as follows:

§ 4.10 Meaning of terms.

* * * * *

Pure condensed must. The dehydrated juice or must of sound, ripe grapes, or other fruit or agricultural products, concentrated to not more than 80° (Balling), the composition thereof remaining unaltered except for removal of water.

* * * * *

Sugar. Pure cane, beet, or dextrose sugar containing, respectively, not less than 95 percent of actual sugar calculated on a dry basis.

* * * * *

PART 5—LABELING AND ADVERTISING OF DISTILLED SPIRTS

6. The authority citation for part 5 continues to read as follows:

Authority: 26 U.S.C. 5301, 7805, 27 U.S.C. 205 and 207.

§ 5.235 [Amended]

7. Amend § 5.235 in paragraph (a)(7)(ii) by removing the word “from” and adding in its place the word “for”.

PART 6—“TIED-HOUSE”

8. The authority citation for part 6 continues to read as follows:

Authority: 15 U.S.C. 49-50; 27 U.S.C. 202 and 205; 44 U.S.C. 3504(h).

§ § 6.5, 6.21, and 6.96 [Amended]

9. In the following table, for each section indicated in the left column, remove the text indicated in the middle column from wherever it appears in the section and add in its place the text indicated in the right column:

Section | Remove | Add
6.5 | http://www.ttb.gov | https://www.ttb.gov.
6.5 | Room 1516 | Room 8970.
6.21(b) | his business | their business.
6.96(b) | particiption | participation.

PART 8—EXCLUSIVE OUTLETS

10. The authority citation for part 8 continues to read as follows:

Authority: 15 U.S.C. 49-50; 27 U.S.C. 202 and 205; 44 U.S.C. 3504(h).

11. Section 8.5 is amended by revising the last sentence to read as follows:

§ 8.5 Delegations of the Administrator.

* * * You may obtain a copy of this order on the TTB website (https://www.ttb.gov) or by mailing a request to the Alcohol and Tobacco Tax and Trade Bureau, National Revenue Center, 550 Main Street, Room 8970, Cincinnati, OH 45202.

PART 9—AMERICAN VITICULTURAL AREAS

12. The authority citation for part 9 continues to read as follows:

Authority: 27 U.S.C. 205.

§ § 9.3, 9.30, 9.36, 9.42, 9.66, 9.78, 9.98, 9.103, 9.108, 9.109, 9.110, 9.117, 9.120, 9.132, 9.135, 9.146, 9.207, 9.210, and 9.256 [Amended]

13. In the following table, for each section indicated in the left column, remove the text indicated in the middle column from wherever it appears in the section and add in its place the text indicated in the right column:

Section | Remove | Add
9.3 | http://www.ttb.gov | https://www.ttb.gov.
9.3 | Room 1516 | Room 8970.
9.30(c)(3) | 714-foot | 741-foot.
9.36(c)(9) | countour | contour.
9.42(c)(1) | southest coner | southeast corner.
9.66(c)(29) | Vally | Valley.
9.78(c)(4) | knownlocally | known locally.
9.98(c)(61) | boundry | boundary.
9.98(c)(77) | acros | across.
9.103(b)(14) | mintue | minute.
9.103(c)(1) | Routh | Route.
9.108(c)(2)(xvi) | pases | passes.
9.109(c)(1) | northermost | northernmost.
9.110(c)(2)(x) | following | following.
9.117(c)(6) | foor | foot.
9.120(c)(9) | stright | straight.
9.132(c) introductory text | Valey | Valley.
9.135(c)(2), second sentence | boundry | boundary.
9.146(c)(4) | powerplant | power plant.
9.207(c)(21) | north | southeasterly.
9.210(b) introductory text | United Stages | United States.
9.256(c)(17) | southeast | southwest.

14. Amend § 9.11 by revising paragraph (b) and adding an authority citation at the end of the section to read as follows:

§ 9.11 Submission of AVA petitions.

* * * * *

(b) How and where to submit an AVA petition. The AVA petition may be sent to TTB via the U.S. Postal Service or a private delivery service. A petition sent via the U.S. Postal Service should be addressed to: Regulations and Rulings Division, Alcohol and Tobacco Tax and Trade Bureau, 1310 G Street NW, Box 12, Washington, DC 20005. A petition sent via a private delivery service should be directed to: Regulations and Rulings Division, Alcohol and Tobacco Tax and Trade Bureau, 1310 G Street NW, Room 300 East, Washington, DC 20005.

* * * * *

(Approved by the Office of Management and Budget under control number 1513-0127)

15. Amend § 9.12 by adding an authority citation at the end of the section to read as follows:

§ 9.12 AVA petition requirements.

* * * * *

(Approved by the Office of Management and Budget under control number 1513-0127)

16. Amend § 9.252 by revising paragraphs (c)(2), (3), and (9) to read as follows:

§ 9.252 Eagle Foothills.

* * * * *

(c) * * *

(2) From the beginning point, proceed north along the western boundary of section 31 to the southwest corner of section 30, T6N/R1W; then

(3) Proceed north-northeast in a straight line to the marked 3,109-foot elevation point near the southwest corner of section 30, T6N/R1W; then

* * * * *

(9) Proceed north along the R1W range line to its first intersection with the 3,400-foot elevation contour; then

* * * * *

PART 10—COMMERCIAL BRIBERY

17. The authority citation for part 10 continues to read as follows:

Authority: 15 U.S.C. 49-50; 27 U.S.C. 202 and 205; 44 U.S.C. 3504(h).

18. Section 10.5 is amended by revising the last sentence to read as follows:

§ 10.5 Delegations of the Administrator.

* * * You may obtain a copy of this order on the TTB website (https://www.ttb.gov) or by mailing a request to the Alcohol and Tobacco Tax and Trade Bureau, National Revenue Center, 550 Main Street, Room 8970, Cincinnati, OH 45202.

PART 11—CONSIGNMENT SALES

19. The authority citation for part 11 continues to read as follows:

Authority: 15 U.S.C. 49-50; 27 U.S.C. 202 and 205.

20. Section 11.5 is amended by revising the last sentence to read as follows:

§ 11.5 Delegations of the Administrator.

* * * You may obtain a copy of this order on the TTB website (https://www.ttb.gov) or by mailing a request to the Alcohol and Tobacco Tax and Trade Bureau, National Revenue Center, 550 Main Street, Room 8970, Cincinnati, OH 45202.

PART 13—LABELING PROCEEDINGS

21. The authority citation for part 13 continues to read as follows:

Authority: 27 U.S.C 205(e), 26 U.S.C. 5301 and 7805.

§ § 13.2, 13.11, 13.20, and 13.61 [Amended]

22. In the following table, for each section indicated in the left column, remove the text indicated in the middle column from wherever it appears in the section and add in its place the text indicated in the right column:

Section | Remove | Add
13.2 | http://www.ttb.gov | https://www.ttb.gov.
13.2 | Room 1516 | Room 8970.
13.11, in the definition of “Certificate of label approval” | project | product.
13.20(b) | http://www.ttb.gov | https://www.ttb.gov.
13.20(b) | Room 1516 | Room 8970.
13.61(b) | http://www.ttb.gov | https://www.ttb.gov.

PART 16—ALCOHOLIC BEVERAGE HEALTH WARNING STATEMENT

23. The authority citation for part 16 continues to read as follows:

Authority: 27 U.S.C. 205, 215, 218; 28 U.S.C. 2461 note.

§ 16.33 [Amended]

24. In § 16.33, amend paragraph (a) by removing the website address “https://www.ttb.gov/regulation_guidance/ablapenalty.html” and adding in its place the website address “https://www.ttb.gov/laws-regulations-and-public-guidance/labeling-act-penalty”.

PART 17—DRAWBACK ON TAXPAID DISTILLED SPIRITS USED IN MANUFACTURING NONBEVERAGE PRODUCTS

25. The authority citation for part 17 continues to read as follows:

Authority: 26 U.S.C. 5010, 5111-5114, 5123, 5206, 5273, 6065, 6091, 6109, 7213, 7652, 7805; 31 U.S.C. 9301, 9303, 9304, 9306.

§ § 17.2, 17.4, 17.7, 17.23, 17.163, 17.181, and 17.183 [Amended]

26. In the following table, for each section indicated in the left column, remove the text indicated in the middle column from wherever it appears in the section and add in its place the text indicated in the right column:

Section | Remove | Add
17.2(b) | http://www.ttb.gov | https://www.ttb.gov.
17.2(b) | Room 1516 | Room 8970.
17.4(e) heading and text | 1513-0130 | 1513-0030.
17.7 | http://www.ttb.gov | https://www.ttb.gov.
17.7 | Room 1516 | Room 8970.
17.23(a) | http://www.irs.gov | https://www.irs.gov.
17.163(c) | taxpaid through Customs | taxpaid through U.S. Customs and Border Protection (CBP).
17.163(c) | Customs Forms 7501 and 7505 | CBP Forms 7501 and 7505.
17.181, in the third sentence | of the U.S. Customs Service | of U.S. Customs and Border Protection.
17.183(a), at the end of the seventh sentence | appropriate TTB | appropriate TTB officer.

27. Amend § 17.103 by revising paragraph (c) and removing the parenthetical authority citation at the end of the section to read as follows:

§ 17.103 Bonds obtained from surety companies.

* * * * *

(c) Treasury Department Circular 570 is published in the Federal Register annually on the first business day in July, and supplemental changes are published periodically thereafter (see https://www.federalregister.gov). The most recent circular and any supplemental changes to it may be viewed on the Bureau of the Fiscal Service website (see https://fiscal.treasury.gov).

28. Revise § 17.106 to read as follows:

§ 17.106 Consents of surety.

The principal and surety shall execute on form TTB F 5000.18, Change in Bond (Consent of Surety), any consents of surety to changes in the terms of bonds. Form TTB F 5000.18 shall be executed with the same formality and proof of authority as is required for the execution of bonds.

PART 18—PRODUCTION OF VOLATILE FRUIT-FLAVOR CONCENTRATE

29. The authority citation for part 18 continues to read as follows:

Authority: 26 U.S.C. 5001, 5171-5173, 5178, 5179, 5203, 5351, 5354, 5356, 5511, 5552, 6065, 6109, 7805.

§ § 18.12, 18.13, 18.14, 18.16, 18.17, 18.21, 18.22, 18.24, 18.25, 18.26, 18.27, 18.31, 18.32, 18.33, 18.34, 18.35, 18.36, 18.37, 18.38, 18.42, 18.51, 18.52, 18.54, 18.55, 18.56, 18.61, 18.62, and 18.63 [Amended]

30. In the following table, for each section indicated in the left column, remove the text indicated in the middle column from wherever it appears in the section and add in its place the text indicated in the right column:

Section | Remove | Add
18.12 | http://www.ttb.gov | https://www.ttb.gov.
18.12 | Room 1516 | Room 8970.
18.13(a) introductory text | he finds | that officer finds.
18.13, in the authority citation at the end of the section | 1512-0046 | 1513-0006.
18.14, in authority citation at the end of the section | 1512-0046 | 1513-0006.
18.16(b) | http://www.ttb.gov | https://www.ttb.gov.
18.16(b) | Room 1516 | Room 8970.
18.17, in the authority citation at the end of the section | 1512-0046 | 1513-0006.
18.21, the first sentence | Form 27-G (5520.3) | form TTB F 5520.3.
18.21, in the authority citation at the end of the section | 1512-0046 | 1513-0006.
18.22, in the authority citation at the end of the section | 1512-0046 | 1513-0006.
18.24, in the introductory text | Form 27-G (5520.3) | form TTB F 5520.3.
18.24, in the authority citation at the end of the section | 1512-0046 | 1513-0006.
18.25(c) | for him | for that party.
18.25(d) | for him | for that party.
18.26, in the first sentence | Form 1534 (5000.8) | a power of attorney on form TTB F 5000.8.
18.26, in the authority citation at the end of the section | 1512-0079 | 1513-0014.
18.27, in the first authority citation at the end of the section | 1512-0046 | 1513-0006.
18.31 | Form 27-G (5520.3) | form TTB F 5520.3.
18.31, in the first authority citation at the end of the section | 1512-0046 | 1513-0006.
18.32, in the authority citation at the end of the section | 1512-0046 | 1513-0006.
18.33, in the authority citation at the end of the section | 1512-0046 | 1513-0006.
18.34, in the second sentence | his own name | their own name.
18.34, in the authority citation at the end of the section | 1512-0046 | 1513-0006.
18.35, in the authority citation at the end of the section | 1512-0046 | 1513-0006.
18.36, in the authority citation at the end of the section | 1512-0046 | 1513-0006.
18.37, in the authority citation at the end of the section | 1512-0046 | 1513-0006.
18.38 | Form 27-G (5520.3) | form TTB F 5520.3.
18.38, in the authority citation at the end of the section | 1512-0046 | 1513-0006.
18.42, in the authority citation at the end of the section | 1512-0046 | 1513-0006.
18.51, in the authority citation at the end of the section | 1512-0098 | 1513-0022.
18.52, in the authority citation at the end of the section | 1512-0046 | 1513-0006.
18.54, in the authority citation at the end of the section | 1512-0098 | 1513-0022.
18.55, in the authority citation at the end of the section | 1512-0098 | 1513-0022.
18.56, in the authority citation at the end of the section | 1512-0098 | 1513-0022.
18.62, in the first authority citation at the end of the section | 1512-0098 | 1513-0022.
18.63, in the first authority citation at the end of the section | 1512-0098 | 1513-0022.

31. Amend § 18.23 by revising the authority citation at the end of the section to read as follows:

§ 18.23 Registry of stills.

* * * * *

(Approved by the Office of Management and Budget under control number 1513-0006)

32. Amend § 18.25 by adding an authority citation at the end of the section to read as follows:

§ 18.25 Organizational documents.

* * * * *

(Approved by the Office of Management and Budget under control number 1513-0006)

33. Amend § 18.39 by revising paragraphs (a) and (c) and the authority citation at the end of the section to read as follows:

§ 18.39 Qualification to alternate a volatile fruit-flavor concentrate plant and a distilled spirits plant.

* * * * *

(a) Forms TTB F 5520.3 and TTB F 5110.41 to cover the proposed alternation of premises;

* * * * *

(c) A bond (TTB F 5110.56) or a consent of surety (TTB F 5000.18) to cover the proposed alternation of premises if the proprietor is required to hold a bond under § 19.151 of this chapter to cover the distilled spirits plant premises subject to alternation.

(Approved by the Office of Management and Budget under control numbers 1513-0006, 1513-0013, 1513-0048, and 1513-0125)

34. Amend § 18.40 by revising paragraphs (a) and (c) and the authority citation at the end of the section to read as follows:

§ 18.40 Qualification to alternate volatile fruit-flavor concentrate plant and bonded wine cellar.

* * * * *

(a) Forms TTB F 5520.3 and TTB F 5120.25 to cover the proposed alternation of premises;

* * * * *

(c) A bond (TTB F 5120.36) or a consent of surety (TTB F 5000.18) to cover the proposed alternation of premises if the proprietor is required to hold a bond under § 24.146 of this chapter to cover the bonded wine cellar premises subject to alternation.

(Approved by the Office of Management and Budget under control numbers 1513-0006, 1513-0009, and 1513-0013)

35. Amend § 18.61 by revising paragraph (b) and the authority citation at the end of the section to read as follows:

§ 18.61 Records and reports.

* * * * *

(b) Records. (1) Each proprietor shall keep such records relating to or connected with the production, transfer, or return of concentrate and the juice or mash from which it is produced, as will:

(i) Enable any appropriate TTB officer to verify operations and to ascertain whether there has been compliance with law and regulations; and

(ii) Enable the proprietor to prepare Form 1695(5520.2).

(2) A proprietor need not prepare a specific record to meet the record requirements of this part. Any book, paper, invoice, bill of lading, or similar document that the proprietor prepares or receives for other purposes may be used, if all required information is shown.

* * * * *

(Approved by the Office of Management and Budget under control number 1513-0022)

36. Amend § 18.65 by:

a. Removing the words “Form 1695(5520.2)” and adding in their place the words “form TTB F 5520.2”; and

b. Adding an authority citation to the end of the section.

The addition reads as follows:

§ 18.65 Annual report.

* * * * *

(Approved by the Office of Management and Budget under control number 1513-0022).

PART 19—DISTILLED SPIRITS PLANTS

37. The authority citation for part 19 continues to read as follows:

Authority: 19 U.S.C. 81c, 1311; 26 U.S.C. 5001, 5002, 5004-5006, 5008, 5010, 5041, 5061, 5062, 5066, 5081, 5101, 5111-5114, 5121-5124, 5142, 5143, 5146, 5148, 5171-5173, 5175, 5176, 5178-5181, 5201-5204, 5206, 5207, 5211-5215, 5221-5223, 5231, 5232, 5235, 5236, 5241-5243, 5271, 5273, 5301, 5311-5313, 5362, 5370, 5373, 5501-5505, 5551-5555, 5559, 5561, 5562, 5601, 5612, 5682, 6001, 6065, 6109, 6302, 6311, 6676, 6806, 7011, 7510, 7805; 31 U.S.C. 9301, 9303, 9304, 9306.

§ 19.3, 19.14, 19.15, 19.116, 19.130, 19.132, 19.142, 19.235, 19.240, 19.243, 19.314, 19.348, 19.403, 19.404, 19.407, 19.452, 19.453, 19.511, 19.512, 19.513, 19.517, 19.519, 19.693, and 19.746 [Amended]

38. In the following table, for each section indicated in the left column, remove the text indicated in the middle column from wherever it appears in the section and add in its place the text indicated in the right column:

Section | Remove | Add
19.3, for each place the word “part” appears (18 times) | part | Part.
19.14 | http://www.ttb.gov | https://www.ttb.gov.
19.14 | Room 1516 | Room 8970.
19.15(b) | http://www.ttb.gov | https://www.ttb.gov.
19.116(a)(2)(iii) | §§ 5.28 and 20.63 | §§ 5.194 and 20.63.
19.130(b) | TTB Officer | TTB officer.
19.132(a)(2)(iii) | §§ 5.28 and 20.63 | §§ 5.194 and 20.63.
19.142(a) | by Customs and | by U.S. Customs and.
19.235(f), in the definition of “Taxpayer” | 26 CFR 301.7702.12 | 26 CFR 301.7701-12.
19.240, in the paragraph (a)(1) heading | ETF | EFT.
19.240(e) | by Customs and | by U.S. Customs and.
19.243(a) | http://www.irs.gov | https//www.irs.gov.
19.314 | §§ 5.26 and 5.27 | §§ 5.192 and 5.193.
19.348 introductory text | §§ 5.26 and 5.27 | §§ 5.192 and 5.193.
19.403(a), in the first sentence | his plant | their plant.
19.403(c) | his files | their files.
19.404 | his own | their own.
19.407(a)(3) | his files | their files.
19.452(a) introductory text | by him | by the proprietor.
19.453, in the first sentence | his bonded | their bonded.
19.511 | subpart E | subpart K.
19.512 | § 5.46 | § 5.202.
19.513(c) | his premises | their premises.
19.517(a) | § 5.34 | § 5.64.
19.517(b) | § 5.35 | subpart I of part 5.
19.517(c) | § 5.37(a) | § 5.65.
19.517(d) | § 5.36(d) | § 5.66(f).
19.517(g) | § 5.40 | § 5.74.
19.517(h) | § 5.40 | § 5.74.
19.517(j) | § 5.39 | §§ 5.71-5.73.
19.519(d) | § 5.22 | § 5.63(a)(2).
19.693(b), in the third sentence | his operations | their operations.
19.693(c)(3) | his receipt | their receipt.
19.746(d) | http://www.ttb.treas.gov | https://www.ttb.gov.

39. Amend § 19.1 by removing the definition of “Secretary” and adding a definition for “Secretary of the Treasury or Secretary” in its place to read as follows:

§ 19.1 Definitions.

* * * * *

Secretary of the Treasury or Secretary. The Secretary of the Treasury or a delegate of the Secretary.

* * * * *

40. Amend § 19.153 by revising paragraph (b) and removing the authority citation at the end of the section.

The revision reads as follows:

§ 19.153 Bonds guaranteed by a corporate surety.

* * * * *

(b) How to find an approved surety. The Department of the Treasury publishes a list of approved corporate surety companies in Treasury Department Circular 570, Companies Holding Certificates of Authority as Acceptable Sureties on Federal Bonds and as Acceptable Reinsuring Companies. Treasury Department Circular 570 is published in the Federal Register annually on the first business day in July, and supplemental changes are published periodically thereafter (see https://www.federalregister.gov). The most recent circular and any supplemental changes to it may be viewed on the Bureau of the Fiscal Service website (see https://fiscal.treasury.gov).

41. Amend § 19.699 by revising paragraph (b) and removing the authority citation at the end of the section.

The revision reads as follows:

§ 19.699 General bond requirements.

* * * * *

(b) Corporate surety. A company that issues bonds is called a “corporate surety.” Proprietors must obtain the surety bonds required by this subpart from a corporate surety approved by the Secretary of the Treasury. The Department of the Treasury publishes a list of approved corporate surety companies in Treasury Department Circular 570, Companies Holding Certificates of Authority as Acceptable Sureties on Federal Bonds and as Acceptable Reinsuring Companies. Treasury Department Circular 570 is published in the Federal Register annually on the first business day in July, and supplemental changes are published periodically thereafter (see https://www.federalregister.gov). The most recent circular and any supplemental changes to it may be viewed on the Bureau of the Fiscal Service website (see https://fiscal.treasury.gov).

* * * * *

42. Amend § 19.761 by adding a heading to the table following paragraph (b) and adding in numerical order an entry for “19.455” to read as follows:

§ 19.761 OMB control numbers assigned under the Paperwork Reduction Act.

* * * * *

(b) * * *

Table 1 to Paragraph (b)
Section where contained | Current OMB control No.
* * * * *
19.455 | 1513-0042
* * * * *

* * * * *

PART 20—DISTRIBUTION AND USE OF DENATURED ALCOHOL AND RUM

43. The authority citation for part 20 is revised to read as follows:

Authority: 26 U.S.C. 5001, 5206, 5214, 5271-5275, 5311, 5552, 5555, 5607, 6065, 6109, 7805.

§§ 20.20 and 20.21 [Amended]

44. In the following table, for each section indicated in the left column, remove the text indicated in the middle column from wherever it appears in the section and add in its place the text indicated in the right column:

Section | Remove | Add
20.20 | http://www.ttb.gov | https://www.ttb.gov.
20.20 | Room 1516 | Room 8970.
20.21(b) | http://www.ttb.gov | https://www.ttb.gov.
20.21(b) | Room 1516 | Room 8970.

45. Amend § 20.11 by removing the definition of “Secretary” and adding a definition for “Secretary of the Treasury or Secretary” in its place to read as follows:

§ 20.11 Meaning of terms.

* * * * *

Secretary of the Treasury or Secretary. The Secretary of the Treasury or a delegate of the Secretary.

* * * * *

PART 21—FORMULAS FOR DENATURED ALCOHOL AND RUM

46. The authority citation for part 21 continues to read as follows:

Authority: 5 U.S.C. 552(a); 26 U.S.C. 5242, 7805.

§§ 21.2, 21.6, and 21.7 [Amended]

47. In the following table, for each section indicated in the left column, remove the text indicated in the middle column from wherever it appears in the section and add in its place the text indicated in the right column:

Section | Remove | Add
21.2(b) | http://www.ttb.gov | https://www.ttb.gov.
21.2(b) | Room 1516 | Room 8970.
21.3(b) | with him | with such officer.
21.6(a) | http://www.archives.gov/federal_register/code_of_federal_regulations/ibr_locations.html | https://www.archives.gov/federal-register/cfr/ibr-locations.html.
21.6(b) | http://www.archives.gov/federal_register/code_of_federal_regulations/ibr_locations.html | https://www.archives.gov/federal-register/cfr/ibr-locations.html.
21.6(c) | http://www.archives.gov/federal_register/code_of_federal_regulations/ibr_locations.html | https://www.archives.gov/federal-register/cfr/ibr-locations.html.
21.7 | http://www.ttb.gov | https://www.ttb.gov.
21.7 | Room 1516 | Room 8970.

§ 21.151 [Amended]

48. Amend § 21.151 in the table by removing the entry for “Green soap, U.S.P”.

PART 22—DISTRIBUTION AND USE OF TAX-FREE ALCOHOL

49. The authority citation for part 22 continues to read as follows:

Authority: 26 U.S.C. 5001, 5121, 5123, 5206, 5214, 5271-5275, 5311, 5552, 5555, 6056, 6061, 6065, 6109, 6151, 6806, 7805; 31 U.S.C. 9304, 9306.

50. Amend § 22.3 in the list of related regulations by revising the entry for 31 CFR Part 225 to read as follows:

§ 22.3 Related regulations.

* * * * *

31 CFR Part 225—Acceptance of Bonds Secured by Government Obligations in Lieu of Bonds with Sureties.

* * * * *

§§ 22.20, 22.21, 22.93, and 22.106 [Amended]

51. In the following table, for each section indicated in the left column, remove the text indicated in the middle column from wherever it appears in the section and add in its place the text indicated in the right column:

Section | Remove | Add
22.20 | http://www.ttb.gov | https://www.ttb.gov.
22.20 | Room 1516 | Room 8970.
22.21(b) | http://www.ttb.gov | https://www.ttb.gov.
22.21(b) | Room 1516 | Room 8970.
22.93(b)(1) | alchohol | alcohol.
22.106, in the third sentence | coumpounded | compounded.

52. Amend § 22.11 as follows:

a. In the definition of “Executed under penalties of perjury,” remove the word “penaltities” and add in its place the word “penalties”; and

b. Remove the definition of “Secretary” and add a definition for “Secretary of the Treasury or Secretary” in its place.

The addition reads as follows:

§ 22.11 Meaning of terms.

* * * * *

Secretary of the Treasury or Secretary. The Secretary of the Treasury or a delegate of the Secretary.

* * * * *

PART 24—WINE

53. The authority citation for part 24 continues to read as follows:

Authority: 5 U.S.C. 552(a); 26 U.S.C. 5001, 5008, 5041, 5042, 5044, 5061, 5062, 5121, 5122-5124, 5173, 5206, 5214, 5215, 5351, 5353, 5354, 5356, 5357, 5361, 5362, 5364-5373, 5381-5388, 5391, 5392, 5511, 5551, 5552, 5661, 5662, 5684, 6065, 6091, 6109, 6301, 6302, 6311, 6651, 6676, 7302, 7342, 7502, 7503, 7606, 7805, 7851; 31 U.S.C. 9301, 9303, 9304, 9306.

§§ 24.19, 24.20, 24.62, 24.137, 24.241, 24.246, 24.247, 24.302, and 24.323 [Amended]

54. In the following table, for each section indicated in the left column, remove the text indicated in the middle column from wherever it appears in the section and add in its place the text indicated in the right column:

Section | Remove | Add
24.19 | http://www.ttb.gov | https://www.ttb.gov.
24.19 | Room 1516 | Room 8970.
24.20(b) | http://www.ttb.gov | https://www.ttb.gov.
24.20(b) | Room 1516 | Room 8970.
24.62, in the last sentence | 26 U.S.C. 6861 | 26 U.S.C. 6862.
24.62, in the authority citation at the end of the section | 1512-0492 | 1513-0088.
24.137(a), in the first and second sentences | Customs Bonded Warehouse | customs bonded warehouse.
24.241(c) | http://www.archives.gov/federal_register/code_of_federal_regulations/ibr_locations.html | https://www.archives.gov/federal-register/cfr/ibr-locations.html.
24.302, in the second authority citation at the end of the section | 1513-XXXX | 1513-0139.
24.323, in the first sentence | TTB F 5200.24 | TTB F 5000.24.

55. Amend § 24.10 by removing the definition of “Secretary” and adding a definition for “Secretary of the Treasury or Secretary” in its place to read as follows:

§ 24.10 Meaning of terms.

* * * * *

Secretary of the Treasury or Secretary. The Secretary of the Treasury or a delegate of the Secretary.

* * * * *

56. Amend § 24.149 by revising paragraph (b) and removing the authority citation at the end of the section.

The revision reads as follows:

§ 24.149 Corporate surety.

* * * * *

(b) Treasury Department Circular 570 is published in the Federal Register annually on the first business day in July, and supplemental changes are published periodically thereafter (see https://www.federalregister.gov). The most recent circular and any supplemental changes to it may be viewed on the Bureau of the Fiscal Service website (see https://fiscal.treasury.gov).

57. Amend § 24.247 in the table by revising the entry for “Carbohydrase (Glucoamylase, Amylogluco-sidase) to read as follows:

§ 24.247 Materials authorized for the treatment of distilling material.

* * * * *

Materials | Use | Reference or limitation
* * * * * * *
Carbohydrase (Glucoamylase, Amylogluco-sidase) | To convent starches to fermentable carbohydrates | The amylase enzyme activity shall be derived from Aspergillus niger or Aspergillus oryzae per FDA advisory opinion dated 8/18/83 or from Rhizopus oryzae per 21 CFR 173.130 or from Rhizopus niveus per 21 CFR 173.110.
* * * * * * *

58. Amend § 24.250 by revising paragraph (b) and the authority citation at the end of the section to read as follows:

§ 24.250 Application for use of new treating materials or process.

* * * * *

(b) Data required. The application will include the following:

(1) The name and description of the material or process;

(2) The purpose, the manner, and the extent to which the material or process is to be used together with any technical bulletin or other pertinent information relative to the material or process;

(3) A sample, if a proposed material;

(4) Documentary evidence from the U.S. Food and Drug Administration that the material is consistent with the food additive requirements under the Federal Food, Drug, and Cosmetic Act for its intended purpose in the amounts proposed for the particular treatment contemplated;

(5) The test results of any laboratory-scale pilot study conducted by the winemaker in testing the material and an evaluation of the product and of the treatment including the results of tests of the shelf life of the treated wine;

(6) A tabulation of pertinent information derived from the testing program conducted by the chemical manufacturer demonstrating the function of the material or process;

(7) A list of all chemicals used in compounding the treating material and the quantity of each component;

(8) The recommended maximum and minimum amounts, if any, of the material proposed to be used in the treatment and a statement as to the volume of water required, if any, to facilitate the addition of the material or operation of the process; and

(9) Two 750-milliliter samples representative of the wine before and after treatment. Information of a confidential or proprietary nature to the manufacturer or supplier of the treating material or process may be forwarded by the manufacturer or supplier to the appropriate TTB officer with a reference to the application filed by the winemaker. Information contained within the winemaker's application can be disclosed to the public, subject to the limitations of 26 U.S.C. 6103 and 7213.

* * * * *

(Approved by the Office of Management and Budget under control numbers 1513-0057 and 1513-0115)

59. Amend § 24.270 by revising paragraphs (c)(1) and (2) and removing the authority citation at end of the section.

The revisions read as follows:

§ 24.270 Determination of tax.

* * * * *

(c) * * *

(1) Tax class 5041(b)(1). On still wines containing not more than 16 percent alcohol by volume, $1.07, per wine gallon;

(2) Tax class 5041(b)(2). On still wines containing more than 16 percent and not exceeding 21 percent alcohol by volume, $1.57 per wine gallon;

* * * * *

60. Amend § 24.272 by:

a. Revising the last sentence of paragraph (e);

b. Removing the first authority citation at the end of the section; and

c. In the second authority citation at the end of the section, removing “1512-0467 and 1512-0492” and adding in its place “1513-0083 and 1513-0088”.

The revision reads as follows:

§ 24.272 Payment of tax by electronic fund transfer.

* * * * *

(e) * * * U.S. Customs and Border Protection (CBP) will provide the proprietor with instructions for preparing EFT remittances for payments to be made to CBP for payment of excise tax on imported wine.

* * * * *

§ 24.310 [Amended]

61. Amend § 24.310 by:

a. Removing the words “and alcohol content” in the second sentence and adding in their place the words “and alcohol content or tax class”;

b. Removing the first authority citation at the end of the section; and

c. In the second authority citation at the end of the section, removing “1512-0298” and adding in its place “1513-0115”.

PART 25—BEER

62. The authority citation for part 25 continues to read as follows:

Authority: 19 U.S.C. 81c; 26 U.S.C. 5002, 5051-5054, 5056, 5061, 5121, 5122-5124, 5222, 5401-5403, 5411-5417, 5551, 5552, 5555, 5556, 5671, 5673, 5684, 6011, 6061, 6065, 6091, 6109, 6151, 6301, 6302, 6311, 6313, 6402, 6651, 6656, 6676, 6806, 7342, 7606, 7805; 31 U.S.C. 9301, 9303-9308.

§ § 25.3, 25.6, 25.142, 25.166, 25.169, 25.191, 25.211, 25.232, 25.242, 25.251, 25.285, 25.286, and 25.291 [Amended]

63. In the following table, for each section indicated in the left column, remove the text indicated in the middle column from wherever it appears in the section and add in its place the text indicated in the right column:

Section | Remove | Add
25.3(b) | http://www.ttb.gov | https://www.ttb.gov.
25.3(b) | Room 1516 | Room 8970.
25.6 | http://www.ttb.gov | https://www.ttb.gov.
25.6 | Room 1516 | Room 8970.
25.142(b)(2), in the last sentence | offcer | officer.
25.166(b) | claim, Form 2635, (5620.8) | claim using form TTB F 5620.8,.
25.169(a) | http://www.irs.gov | https://www.irs.gov.
25.191 | subpart Y of part 19 of this chapter | subpart X of part 19 of this chapter.
25.211(d) | beween | between.
25.232 | basis permit | basic permit.
25.242(c), at the end of the second sentence | lablels | labels.
25.251(e) | http://www.archives.gov/federal_register/code_of_federal_regulations/ibr_locations.html | https://www.archives.gov/federal-register/cfr/ibr-locations.html.
25.285(a) in the first sentence | Form 5000.24 | form TTB F 5000.24.
25.285(a) in the second sentence | Form 2635 (5620.8) | form TTB F 5620.8.
25.286(a), in the first sentence | Form 2635 (Form 5620.8) | form TTB F 5620.8.
25.286(a) (four times) | Form 5130.9 | form TTB F 5130.9.
25.291(b)(2) | concurrenty | concurrently.

64. Amend § 25.11 by removing the definition of “Secretary” and adding a definition for “Secretary of the Treasury or Secretary” in its place to read as follows:

§ 25.11 Meaning of terms.

* * * * *

Secretary of the Treasury or Secretary. The Secretary of the Treasury or a delegate of the Secretary.

* * * * *

65. Amend § 25.55 by revising paragraph (f)(2) introductory text to read as follows:

§ 25.55 Formulas for fermented products.

* * * * *

(f) * * *

(2) You may request a determination from TTB on whether or not the use of a process not listed in paragraph (a)(1) of this section will require the filing of a formula or whether the use of a particular coloring, flavoring, or food material may be exempted from the formula filing requirement of paragraph (a)(3) or paragraph (a)(4) of this section. You should mail your request to the Assistant Director, Alcohol Labeling and Formulation Division, Alcohol and Tobacco Tax and Trade Bureau, 1310 G Street NW, Box 12, Washington, DC 20005.

* * * * *

66. Amend § 25.56 by revising paragraph (b) and removing the authority citation at the end of the section.

The revision reads as follows:

§ 25.56 Filing of formulas.

* * * * *

(b) Where do I file a formula? File your formula with the Assistant Director, Alcohol Labeling and Formulation Division, Alcohol and Tobacco Tax and Trade Bureau, 1310 G Street NW, Box 12, Washington, DC 20005.

67. Amend § 25.77 by revising the first sentence and removing the authority citation at the end of the section.

The revision reads as follows:

§ 25.77 Change in location.

When there is a change in location of the brewery, the brewer shall file an amended form TTB F 5130.10, and also shall file a new bond on form TTB F 5130.22 as required under § 25.91 or a consent of surety on form TTB F 5000.18 as required under § 25.92, extending the terms of an existing bond or continuation certificate to cover operations at the new location. * * *

68. Amend § 25.98 by:

a. Revising paragraph (c);

b. In paragraph (d), removing the words “Circular No. 570” and adding in their place the words “Circular 570”; and

c. Removing the authority citation at the end of the section.

The revision reads as follows:

§ 25.98 Surety or security.

* * * * *

(c) Availability of Circular 570. Treasury Department Circular 570 is published in the Federal Register annually on the first business day in July, and supplemental changes are published periodically thereafter (see https://www.federalregister.gov). The most recent circular and any supplemental changes to it may be viewed on the Bureau of the Fiscal Service website (see https://fiscal.treasury.gov).

* * * * *

69. Amend § 25.165 by revising the last sentence of paragraph (e) and removing the authority citation at the end of the section.

The revision reads as follows:

§ 25.165 Payment of tax by electronic fund transfer.

* * * * *

(e) * * * U.S. Customs and Border Protection (CBP) will provide the taxpayer with instructions for preparing EFT remittances for payments to be made to CBP.

PART 26—LIQUORS AND ARTICLES FROM PUERTO RICO AND THE VIRGIN ISLANDS

70. The authority citation for part 26 continues to read as follows:

Authority: 19 U.S.C. 81c; 26 U.S.C. 5001, 5007, 5008, 5010, 5041, 5051, 5061, 5111-5114, 5121, 5122-5124, 5131-5132, 5207, 5232, 5271, 5275, 5301, 5314, 5555, 6001, 6038E, 6065, 6109, 6301, 6302, 6804, 7101, 7102, 7651, 7652, 7805; 27 U.S.C. 203, 205; 31 U.S.C. 9301, 9303, 9304, 9306.

§ § 26.2, 26.3, 26.78, 26.87, 26.93, 26.102, 26.108, 26.114, 26.116, 26.126, 26.199b, 26.199c, 26.201a, and 26.266 [Amended]

71. In the following table, for each section indicated in the left column, remove the text indicated in the middle column from wherever it appears in the section and add in its place the text indicated in the right column:

Section | Remove | Add
26.2(b) | http://www.ttb.gov | https://www.ttb.gov.
26.2(b) | Room 1516 | Room 8970.
26.3 | http://www.ttb.gov | https://www.ttb.gov.
26.3 | Room 1516 | Room 8970.
26.78, in the third sentence | his delegate | their delegate.
26.87, in the first sentence (2 times) | he shall | they shall,.
26.87, in the second sentence | his delegate | their delegate.
26.93, in the last sentence | his delegate | their delegate.
26.102, in the last sentence | his delegate | their delegate.
26.108, in the section heading | 5100.51 | 5110.51.
26.108(c) | his delegate | their delegate.
26.114 | Form 487B | form TTB F 5170.7.
26.116, in the first sentence | the Secretary, or his delegate, finds | the Secretary or their delegate finds.
26.116, in the first sentence | he will execute his | they will execute their.
26.116, in the third sentence | he will execute his | they will execute their.
26.116, in the fourth sentence | he will withhold release | they will withhold release.
26.126 | paid to the U.S. Customs authorities | paid to U.S. Customs and Border Protection authorities.
26.199b | he finds that the applicant is in compliance with law and regulations, he will | he or she finds that the applicant is in compliance with law and regulations, he or she will.
26.199c | of convenient | for convenient.
26.201a(a) introductory text | his duly | the Governor's duly.
26.201a(b), in first sentence of the undesignated paragraph beginning with “Provided” | his duly authorized agents, are concurred in by the Secretary of the Treasury of the United States or his delegate | the Governor's duly authorized agents, are concurred in by the Secretary of the Treasury of the United States or the Secretary's delegate.
26.266 | regulations. (19 CFR Ch. I) | regulations (19 CFR chapter I).

72. Amend § 26.11, by revising the definition of “Virgin Islands regulations” and removing the authority citation at the end of the section.

The revision reads as follows:

§ 26.11 Meaning of terms.

* * * * *

Virgin Islands regulations. Regulations adopted or issued by the Governor of the Virgin Islands, or by the Governor's duly authorized agents, with the concurrence of the Secretary of the Treasury of the United States or the Secretary's delegate, under the provisions of 26 U.S.C. 5314, as amended, and § 26.201a.

* * * * *

73. Revise § 26.62 to read as follows:

§ 26.62 Corporate surety.

(a) Surety bonds may be given only with corporate sureties holding certificates of authority from, and subject to the limitations prescribed by, the Secretary of the Treasury of the United States, as set forth in the current revision of U.S. Treasury Department Circular 570 (Companies Holding Certificates of Authority as Acceptable Sureties on Federal Bonds and as Acceptable Reinsuring Companies).

(b) U.S. Treasury Department Circular 570 is published in the Federal Register annually on the first business day in July, and supplemental changes are published periodically thereafter (see https://www.federalregister.gov). The most recent circular and any supplemental changes to it may be viewed on the United States Treasury Department's Bureau of the Fiscal Service website (see https://fiscal.treasury.gov).

74. Amend § 26.112a by:

a. Revising the last sentence of paragraph (e);

b. Revising the first authority citation at the end of the section; and

c. Removing the second authority citation at the end of the section.

The revisions read as follows:

§ 26.112a Payment of tax by electronic fund transfer.

* * * * *

(e) * * * U.S. Customs and Border Protection (CBP) will provide the taxpayer with instructions for preparing EFT remittances for payments to be made to CBP.

(Approved by the Office of Management and Budget under control number 1513-0083)

75. Amend § 26.267 by revising paragraphs (c) and (d) and the first authority citation at the end of the section and removing the second authority citation at the end of the section.

The revisions read as follows:

§ 26.267 Payment of tax by electronic fund transfer.

* * * * *

(c) Electronic fund transfer or EFT means any transfer of funds, as defined in § 26.11, in accordance with procedures established by U.S. Customs and Border Protection (CBP).

(d) Each person who is required by this section to make remittances by EFT shall make the EFT remittance in accordance with the requirements of CBP.

(Approved by the Office of Management and Budget under Control Number 1513-0083)

PART 27—IMPORTATION OF DISTILLED SPIRITS, WINES, AND BEER

76. The authority citation for part 27 continues to read as follows:

Authority: 5 U.S.C. 552(a), 19 U.S.C. 81c, 1202; 26 U.S.C. 5001, 5007, 5008, 5010, 5041, 5051, 5054, 5061, 5121, 5122-5124, 5201, 5205, 5207, 5232, 5273, 5301, 5313, 5382, 5555, 6038E, 6065, 6109, 6302, 7805.

§ § 27.2, 27.3, 27.11, 27.48a, 27.60, 27.171, 27.202, 27.204, 27.209, and 27.264 [Amended]

77. In the following table, for each section indicated in the left column, remove the text indicated in the middle column from wherever it appears in the section and add in its place the text indicated in the right column:

Section | Remove | Add
27.2(b) | http://www.ttb.gov | https://www.ttb.gov.
27.2(b) | Room 1516 | Room 8970.
27.3 | http://www.ttb.gov | https://www.ttb.gov.
27.3 | Room 1516 | Room 8970.
27.11, in the definition of “Class 8 Customs bonded warehouse” | Customs Regulations (19 CFR, chapter I) | the customs regulations (19 CFR chapter I).
27.48a(c) | the U.S. Customs Service | U.S. Customs and Border Protection.
27.48a(d) | the U.S. Customs Service | U.S. Customs and Border Protection.
27.60 | Regulations 7 (27 CFR part 7) | 27 CFR part 7.
27.171(a), in the first sentence | his plant | their plant.
27.171(a), in the last sentence | his liability | their liability.
27.202, in the first sentence | § 5.47a | § 5.203.
27.202, in the second sentence | subpart E | subpart K.
27.204(b)(2), in the first sentence | his premises | their premises.
27.204(b)(2), in the last sentence | TTB officer decision | TTB officer's decision.
27.209, in the first sentence | for him | for that importer.
27.264(a), in the first sentence | Customs and | U.S. Customs and.

PART 28—EXPORTATION OF ALCOHOL

78. The authority citation for part 28 continues to read as follows:

Authority: 5 U.S.C. 552(a); 19 U.S.C. 81c, 1202; 26 U.S.C. 5001, 5007, 5008, 5041, 5051, 5054, 5061, 5121, 5122, 5201, 5205, 5207, 5232, 5273, 5301, 5313, 5555, 6109, 6302, 7805; 27 U.S.C. 203, 205; 44 U.S.C. 3504(h).

§§ 28.2, 28.3, 28.4, 28.21, 28.216, 28.219, 28.264, and 28.267 [Amended]

79. In the following table, for each section indicated in the left column, remove the text indicated in the middle column from wherever it appears in the section and add in its place the text indicated in the right column:

Section | Remove | Add
28.2(b) | http://www.ttb.gov | https://www.ttb.gov.
28.2(b) | Room 1516 | Room 8970.
28.3, in the listing for “19 CFR Chapter I—Customs Regulations” | Customs Regulations | U.S. Customs and Border Protection, Department of Homeland Security; Department of the Treasury.
28.4 | http://www.ttb.gov | https://www.ttb.gov.
28.4 | Room 1516 | Room 8970.
28.21(f) | that he has found | that he or she has found.
28.216 | parts 24 | part 24.
28.219(a) | celler | cellar.
28.264, in the first sentence | notifcation | notification.
28.267, in the second sentence | of U.S. Customs regulations | of the customs regulations.

80. Amend § 28.11 by:

a. Revising the definition of “Customs bonded warehouse”, “Customs officer”, and “Manufacturing bonded warehouse”;

b. Removing the definition of “Secretary” and adding a definition for “Secretary of the Treasury or Secretary” in its place; and

c. Removing the authority citation at the end of the section.

The revisions read as follows:

§ 28.11 Meaning of terms.

* * * * *

Customs bonded warehouse. A customs bonded warehouse, class 2, 3, or 8, established under the provisions of the customs regulations (19 CFR chapter I).

Customs officer. An officer of U.S. Customs and Border Protection (CBP) or any agent or other person authorized by law to perform the duties of such an officer.

* * * * *

Manufacturing bonded warehouse. A manufacturing bonded warehouse, class six, established under the provisions of the customs regulations (19 CFR, chapter I).

* * * * *

Secretary of the Treasury or Secretary. The Secretary of the Treasury or a delegate of the Secretary.

* * * * *

81. Amend § 28.52 by revising paragraph (b) and removing the authority citation at the end of the section.

The revision reads as follows:

§ 28.52 Corporate surety.

* * * * *

(b) Treasury Department Circular 570 is published in the Federal Register annually on the first business day in July, and supplemental changes are published periodically thereafter (see https://www.federalregister.gov). The most recent circular and any supplemental changes to it may be viewed on the Bureau of the Fiscal Service website (see https://fiscal.treasury.gov).

82. Revise § 28.148 to read as follows:

§ 28.148 Brewer's report.

The brewer's records shall reflect the quantity of beer or beer concentrate removed without payment of tax under this subpart, and the brewer must report the quantity of beer or beer concentrate so removed on their monthly or quarterly report of operations, as appropriate. The total quantity of beer or beer concentrate involved in all export shipments returned during any reporting period also must be recorded as a separate entry on the appropriate report of operations. Brewers required to submit monthly reports of operations must use form TTB F 5130.9, while brewers required to submit quarterly reports of operations may use either form TTB F 5130.9 or form TTB F 5130.26 (or any successor forms). For requirements regarding monthly and quarterly reporting, see 27 CFR 25.297.

(Approved by the Office of Management and Budget under control number 1513-0007)

PART 29—STILLS AND MISCELLANEOUS REGULATIONS

83. The authority citation for part 29 is revised to read as follows:

Authority: 26 U.S.C. 5002, 5101, 5102, 5179, 5291, 5601, 5615, 5687, 6109, 7805.

§ § 29.42, 29.43, and 29.55 [Amended]

84. In the following table, for each section indicated in the left column, remove the text indicated in the middle column from wherever it appears in the section and add in its place the text indicated in the right column:

Section | Remove | Add
29.42 | http://www.ttb.gov | https://www.ttb.gov.
29.42 | Room 1516 | Room 8970.
29.43(b) | http://www.ttb.gov | https://www.ttb.gov.
29.43(b) | Room 1516 | Room 8970.
29.55(c), in the second sentence | othewise | otherwise.

85. Amend § 29.45 by:

a. Adding in alphabetical order a definition for “Condenser”; and

b. In the definition of “Still”, removing the word “spiritous” and adding in its place the word “spirituous”.

The addition reads as follows:

§ 29.45 Meaning of terms.

* * * * *

Condenser. Any apparatus capable of being used when connected with a still, for condensing or liquefying alcoholic or spirituous vapors, but shall not include condensers to be used with laboratory stills or stills used for distilling water or other nonalcoholic materials where the cubic distilling capacity is one gallon or less.

* * * * *

PART 30—GAUGING MANUAL

86. The authority citation for part 30 continues to read as follows:

Authority: 26 U.S.C. 7805.

§ § 30.1, 30.24, 30.25, 30.31, and 30.71 [Amended]

87. In the following table, for each section indicated in the left column, remove the text indicated in the middle column from wherever it appears in the section and add in its place the text indicated in the right column:

Section | Remove | Add
30.1(c) | http://www.archives.gov/federal_register/code_of_federal_regulations/ibr_locations.html | https://www.archives.gov/federal-register/cfr/ibr-locations.html.
30.24(c) | http://www.archives.gov/federal_register/code_of_federal_regulations/ibr_locations.html | https://www.archives.gov/federal-register/cfr/ibr-locations.html.
30.25 introductory text, in the third sentence | above 60 degress | above 60 degrees.
30.31(d) | guage prescribed | gauge prescribed.
30.71, in the third sentence | at his option | at their option.

Subpart A—Scope of Regulations

88. Add § 30.3 to subpart A to read as follows:

§ 30.3 Delegations of the Administrator.

The regulatory authorities of the Administrator contained in this part are delegated to appropriate TTB officers. These TTB officers are specified in TTB Order 1135.30, Delegation of the Administrator's Authorities in 27 CFR part 30, Gauging Manual. You may obtain a copy of this order by accessing the TTB website (https://www.ttb.gov) or by mailing a request to the Alcohol and Tobacco Tax and Trade Bureau, National Revenue Center, 550 Main Street, Room 8970, Cincinnati, OH 45202.

PART 31—ALCOHOL BEVERAGE DEALERS

89. The authority citation for part 31 continues to read as follows:

Authority: 26 U.S.C. 5001, 5002, 5121, 5122-5124, 5131, 5132, 5206, 5207, 5273, 5301, 5352, 5555, 5603, 5613, 5681, 5687, 6061, 6065, 6071, 6091, 6103, 6109, 6723, 6724, 7805.

§§ 31.11, 31.13, and 31.115 [Amended]

90. In the following table, for each section indicated in the left column, remove the text indicated in the middle column from wherever it appears in the section and add in its place the text indicated in the right column:

Section | Remove | Add
31.11(b) | http://www.ttb.gov | https://www.ttb.gov.
31.11(b) | Room 1516 | Room 8970.
31.13 | http://www.ttb.gov | https://www.ttb.gov.
31.13 | Room 1516 | Room 8970.
31.115(b) | http://www.irs.gov/ | https://www.irs.gov.

PART 40—MANUFACTURE OF TOBACCO PRODUCTS, CIGARETTE PAPERS AND TUBES, AND PROCESSED TOBACCO

91. The authority citation for part 40 continues to read as follows:

Authority: 26 U.S.C. 448, 5701, 5703-5705, 5711-5713, 5721-5723, 5731-5734, 5741, 5751, 5753, 5761-5763, 6061, 6065, 6109, 6151, 6301, 6302, 6311, 6313, 6402, 6404, 6423, 6676, 6806, 7011, 7212, 7325, 7342, 7502, 7503, 7606, 7805; 31 U.S.C. 9301, 9303, 9304, 9306.

§ § 40.31, 40.41, 40.44, 40.49, 40.66, 40.67, 40.68, 40.91, 40.92, 40.137, 40.165a, 40.357, 40.392, 40.402, 40.403, 40.407, 40.422, and 40.491 [Amended]

92. In the following table, for each section indicated in the left column, remove the text indicated in the middle column from wherever it appears in the section and add in its place the text indicated in the right column:

Section | Remove | Add
40.41(b) | http://www.ttb.gov | https://www.ttb.gov.
40.41(b) | Room 1516 | Room 8970.
40.44, in the last sentence | part 172 of this chapter | part 72 of this chapter.
40.49 | http://www.ttb.gov | https://www.ttb.gov.
40.49 | Room 1516 | Room 8970.
40.66 | 5200.25 or 5200.26 | 5200.29 (or TTB F 5200.25 or 5200.26).
40.67 | 5200.25 or 5200.26 | 5200.29 (or TTB F 5200.25 or 5200.26).
40.68, in the last sentence | a appropriate | an appropriate.
40.91 | he shall | they shall.
40.91 | Form 2098 | TTB F 5200.16.
40.92, in the first sentence | his permit | their permit.
40.92, in the second sentence | to him | to them.
40.137 | 5200.18 | 5000.18.
40.165a(e), in the last sentence, in the first instance | U.S. Customs Service | U.S. Customs and Border Protection (CBP).
40.165a(e), in the last sentence, in the second instance | U.S. Customs Service | CBP.
40.357(e), in the first sentence | an TTB procedure | a TTB procedure.
40.357(e), in the last sentence, in the first instance | U.S. Customs Service | U.S. Customs and Border Protection (CBP).
40.357(e), in the last sentence, in the second instance | U.S. Customs Service | CBP.
40.392 | 5200.25 or 5200.26 | 5200.29 (or TTB F 5200.25 or 5200.26).
40.402 | Companies). (See § 40.401(c)) When | Companies); see § 40.401(c). When.
40.403 | Acceptance of Bonds, Notes or Other Obligations Issued or Guaranteed by the United States as Security in Lieu of Surety or Sureties on Penal Bonds | Acceptance of Bonds Secured by Government Obligations in Lieu of Bonds with Sureties.
40.407 | 5000.18, Extension of Coverage of Bond, | 5000.18.
40.422, in the introductory text | Form 5230.3 | F 5210.5.
40.491(b)(2), in the first sentence | destruction | a purpose authorized by § 40.72(b).

§ 40.22 [Amended]

93. Amend § 40.22 in paragraph (b)(1) by removing the last sentence.

§ 40.31 [Amended]

94. Amend § 40.31 in the first sentence by removing “of the part”.

95. Amend § 40.131 by:

a. Removing the words “Circular No. 570” in paragraph (a) and adding in their place the words “Circular 570”;

b. Revising paragraph (b); and

c. Removing the authority citation at the end of the section.

The revision reads as follows:

§ 40.131 Corporate surety.

* * * * *

(b) Treasury Department Circular 570 is published in the Federal Register annually on the first business day in July, and supplemental changes are published periodically thereafter (see https://www.federalregister.gov). The most recent circular and any supplemental changes to it may be viewed on the Bureau of the Fiscal Service website (see https://fiscal.treasury.gov).

96. Amend § 40.401 by:

a. Removing the words “Circular No. 570” in paragraph (a) and adding in their place the words “Circular 570”;

b. Revising paragraph (c); and

c. Removing the authority citation at the end of the section.

The revision reads as follows:

§ 40.401 Corporate surety.

* * * * *

(c) Treasury Department Circular 570 is published in the Federal Register annually on the first business day in July, and supplemental changes are published periodically thereafter (see https://www.federalregister.gov). The most recent circular and any supplemental changes to it may be viewed on the Bureau of the Fiscal Service website (see https://fiscal.treasury.gov).

PART 41—IMPORTATION OF TOBACCO PRODUCTS, CIGARETTE PAPERS AND TUBES, AND PROCESSED TOBACCO

97. The authority citation for part 41 continues to read as follows:

Authority: 26 U.S.C. 5701-5705, 5708, 5712, 5713, 5721-5723, 5741, 5754, 5761-5763, 6301, 6109, 6302, 6313, 6402, 6404, 7101, 7212, 7342, 7606, 7651, 7652, 7805; 31 U.S.C. 9301, 9303, 9304, 9306.

§§ 41.11, 41.21, 41.26, 41.29, 41.50, 41.63, 41.82, 41.83, 41.109, 41.111, 41.114a, 41.124, 41.141, 41.173, 41.190, and 41.262 [Amended]

98. In the following table, for each section indicated in the left column, remove the text indicated in the middle column from wherever it appears in the section and add in its place the text indicated in the right column:

Section | Remove | Add
41.11, in the definition of “Importer” | Customs bonded | customs bonded.
41.21(b) | http://www.ttb.gov | https://www.ttb.gov.
41.21(b) | Room 1516 | Room 8970.
41.26(c) | method of procedure | method or procedure.
41.29 | http://www.ttb.gov | https://www.ttb.gov.
41.29 | Room 1516 | Room 8970.
41.50, in the first sentence | and Customs Regulations, 19 CFR, chapter I, | and the customs regulations (19 CFR chapter I).
41.63(c)(1) | the U.S. Customs Service | U.S. Customs and Border Protection.
41.63(c)(2) | elswhere | elsewhere.
41.63(d) | the U.S. Customs Service | U.S. Customs and Border Protection.
41.82(a) | parts 44 and 270 | parts 40 and 44.
41.82(e) | 27 CFR part 270 | 27 CFR part 40.
41.82(i) | parts 44 and 270 | parts 40 and 44.
41.82(i) | to the U.S. Customs Service | to U.S. Customs and Border Protection.
41.83(a) | parts 44 and 270 | parts 40 and 44.
41.83(d) | the U.S. Customs Service | U.S. Customs and Border Protection.
41.109, in the first sentence | Form 2986 | TTB F 5210.12.
41.111(a)(1) | TTB F 2986 (5210.12) | TTB F 5210.12.
41.114a(a) introductory text, in the first sentence | Form 2936 | Form 2986.
41.124, in the second sentence | Form 2105 | TTB F 5000.18.
41.141, in the second sentence | Form 5210.5 or Form 2138 | TTB F 5210.5.
41.173, the first sentence | TTB to officer | TTB officer.
41.190 | Customs | U.S. Customs and Border Protection.
41.262(d)(1), in the first sentence | paragraph (d)(2) | paragraphs (d)(2) and (3).

99. Amend § 41.119 by:

a. Removing the words “Circular No. 570” in paragraph (a) and adding in their place the words “Circular 570”;

b. Revising paragraph (b); and

c. Removing the authority citation at the end of the section.

The revision reads as follows:

§ 41.119 Corporate surety.

* * * * *

(b) Treasury Department Circular 570 is published in the Federal Register annually on the first business day in July, and supplemental changes are published periodically thereafter (see https://www.federalregister.gov). The most recent circular and any supplemental changes to it may be viewed on the Bureau of the Fiscal Service website (see https://fiscal.treasury.gov).

PART 44—EXPORTATION OF TOBACCO PRODUCTS AND CIGARETTE PAPERS AND TUBES, WITHOUT PAYMENT OF TAX, OR WITH DRAWBACK OF TAX

100. The authority citation for part 44 is revised to read as follows:

Authority: 26 U.S.C. 448, 5701-5705, 5711-5713, 5721-5723, 5731-5734, 5741, 5751, 5754, 6061, 6065, 6109, 6151, 6402, 6404, 6806, 7011, 7212, 7342, 7606, 7805; 31 U.S.C. 9301, 9303, 9304, 9306.

§ § 44.2, 44.3, 44.82, 44.86, 44.101, 44.102, 44.103, 44.108, 44.109, 44.111, 44.126, 44.143, and 44.223 [Amended]

101. In the following table, for each section indicated in the left column, remove the text indicated in the middle column from wherever it appears in the section and add in its place the text indicated in the right column:

Section | Remove | Add
44.2(b) | http://www.ttb.gov | https://www.ttb.gov.
44.2(b) | Room 1516 | Room 8970.
44.3 | http://www.ttb.gov | https://www.ttb.gov.
44.3 | Room 1516 | Room 8970.
44.82, in the first sentence | Form 2093 (5200.3) | Form 5200.3.
44.86 | Form 2103 (5220.5) | Form 5200.29.
44.101 | Form 2098 (5200.16) | Form 5200.16.
44.102, in the first sentence | Form 2098 (5200.16) | Form 5200.16.
44.103, in the first sentence | Form 2098 (5200.16) | Form 5200.16.
44.108, in the first sentence | Form 2098 (5200.16) | Form 5200.16.
44.109 | Form 2098 (5200.16) | Form 5200.16.
44.111, in the first sentence | Form 2098 (5200.16) | Form 5200.16.
44.126 | Form 2105 (5000.7) | Form 5000.18.
44.143(a) | Form 5220.3 (3373) | Form 5220.3.
44.223, in the first sentence | Form 2148 (5200.17) | Form 5200.17.

102. Amend § 44.11 by adding in alphabetical order a definition for “Customs officer” and revising the definition of “Factory” to read as follows:

§ 44.11 Meaning of terms.

* * * * *

Customs officer. An officer of U.S. Customs and Border Protection (CBP) or any agent or other person authorized by law to perform the duties of such an officer.

* * * * *

Factory. The premises of a manufacturer of tobacco products or cigarette papers and tubes in which that person carries on such business.

* * * * *

103. Amend § 44.121 by:

a. Removing from paragraph (a) the words “Circular No. 570, as revised (see paragraph (c) of this section)” and adding in their place the words “Circular 570, Companies Holding Certificates of Authority as Acceptable Sureties on Federal Bonds and as Acceptable Reinsuring Companies, as revised (see paragraph (c) of this section)”;

b. Revising paragraph (c); and

c. Removing the authority citation at the end of the section.

The revision reads as follows:

§ 44.121 Corporate surety.

* * * * *

(c) Treasury Department Circular 570 is published in the Federal Register annually on the first business day in July, and supplemental changes are published periodically thereafter (see https://www.federalregister.gov). The most recent circular and any supplemental changes to it may be viewed on the Bureau of the Fiscal Service website (see https://fiscal.treasury.gov).

§ 44.122 [Amended]

104. Amend § 44.122 by:

a. Removing from the first sentence the words “the provisions of Treasury Department Circular 154, revised (31 CFR part 225)” and adding in their place the words, “the provisions of 31 CFR part 225 regarding acceptance of bonds secured by Government obligations in lieu of bonds with sureties”; and

b. Removing the authority citation at the end of the section.

§ 44.129 [Amended]

105. Amend § 44.129 by:

a. Removing from paragraph (a) the words “provisions of Treasury Department Circular No. 154 (31 CFR Part 225—Acceptance of Bonds, Notes or Other Obligations Issued or Guaranteed by the United States as Security in Lieu of Surety or Sureties on Penal Bonds)” and adding in their place the words “provisions of 31 CFR part 225 regarding acceptance of bonds secured by Government obligations in lieu of bonds with sureties”;

b. Removing and reserving paragraph (b); and

c. Removing the authority citation at the end of the section.

106. Amend § 44.205 by:

a. Removing from paragraph (a)(1) the word “Customs” and adding in its place the word “customs”;

b. Removing from paragraph (a)(2) the words “Customs officer” and “with Customs” and adding in their places the words “customs officer” and “with U.S. Customs and Border Protection (CBP)”, respectively;

c. Revising paragraph (b) introductory text; and

d. Removing from paragraph (c) the word “Customs” wherever it appears and adding in its place the word “customs”.

The revision reads as follows:

§ 44.205 To contiguous foreign countries.

* * * * *

(b) When a shipment has been cleared by CBP from the United States, and when the customs officer at the port of exit is satisfied that the products have departed from the United States, that officer shall—

* * * * *

PART 45—REMOVAL OF TOBACCO PRODUCTS AND CIGARETTE PAPERS AND TUBES, WITHOUT PAYMENT OF TAX, FOR THE USE OF THE UNITED STATES

107. The authority citation for part 45 is revised to read as follows:

Authority: 26 U.S.C. 5702-5705, 5723, 5741, 5751, 5762, 5763, 6109, 6313, 7212, 7342, 7606, 7805; 44 U.S.C. 3504(h).

§ 45.21 [Amended]

108. Amend § 45.21 by designating the introductory text as paragraph (a), redesignating paragraphs (a) through (c) as paragraphs (a)(1) through (3), and designating the undesignated paragraph following newly redesignated paragraph (a)(3) as paragraph (b).

§ 45.22 [Amended]

109. Amend § 45.22 by designating the introductory text as paragraph (a), redesignating paragraphs (a) through (c) as paragraphs (a)(1) through (3), and designating the undesignated paragraph following newly redesignated paragraph (a)(3) as paragraph (b).

§ § 45.11, 45.21, 45.22, 45.23, 45.24, 45.26, 45.27, 45.32, 45.36, and 44.42 [Amended]

110. In the following table, for each section indicated in the left column, remove the text indicated in the middle column from wherever it appears in the section and add in its place the text indicated in the right column:

Section | Remove | Add
45.11, in the definition of “Factory” | he carries | the manufacturer carries.
45.11, in the definition of “Manufacturer of cigarette papers and tubes” | his own | their own.
45.11, in paragraph (2) of the definition of “Manufacturer of tobacco products” | Customs | customs.
45.11, in the definition of “This chapter” | title 26 | title 27.
45.21, in the second sentence of the newly redesignated paragraph (a) | he finds | that officer finds.
45.21, in newly redesignated paragraph (b), in the last sentence | his records | their records.
45.22, in newly redesignated paragraph (a) introductory text | he finds | that officer finds.
45.22, in newly redesignated paragraph (b), in the last sentence | his records | their records.
45.23, in the second sentence | of his | of their.
45.23, in the last sentence | permit him | permit that officer.
45.24 | in his | in their.
45.26 | http://www.ttb.gov | https://www.ttb.gov.
45.26 | Room 1516 | Room 8970.
45.27(b) | http://www.ttb.gov | https://www.ttb.gov.
45.27(b) | Room 1516 | Room 8970.
45.32 | his factory | their factory.
45.36 | to appropriate | to the appropriate.
45.36 | which he | which that person.
45.36 | in his | in their.
45.42, in the sixth sentence | If approved by him the appropriate TTB officer shall | If approved by the appropriate TTB officer, that officer shall.

PART 46—MISCELLANEOUS REGULATIONS RELATING TO TOBACCO AND CIGARETTE PAPERS AND TUBES

111. The authority citation for part 46 is revised to read as follows:

Authority: 18 U.S.C. 2341-2346, 26 U.S.C. 5061, 5704, 5708, 5731-5734, 5751, 5754, 5761-5763, 6001, 6109, 6601, 6621, 6622, 7212, 7342, 7602, 7606, 7805; 44 U.S.C. 3504(h), 49 U.S.C. 782, unless otherwise noted.

§ § 46.7, 46.21, 46.22, 46.74, 46.92, 46.102, 46.231, and 46.252 [Amended]

112. In the following table, for each section indicated in the left column, remove the text indicated in the middle column from wherever it appears in the section and add in its place the text indicated in the right column:

Section | Remove | Add
46.7, in the first sentence | Form 2635 (5620.8) | form TTB F 5620.8.
46.21 | http://www.ttb.gov | https://www.ttb.gov.
46.21 | Room 1516 | Room 8970.
46.22(b) | http://www.ttb.gov | https://www.ttb.gov.
46.22(b) | Room 1516 | Room 8970.
46.74 | TTB Form 2635 (5620.8) | form TTB F 5620.8.
46.92, in the definition of “Manufacturer of cigarette papers and tubes” | his own | their own.
46.102(b) | http://www.irs.gov | https://www.irs.gov.
46.231 | http://www.ttb.gov | https://www.ttb.gov.
46.252 | TTB Form 2635 (5620.8) | form TTB F 5620.8.

113. Amend § 46.11 by:

a. Removing from paragraph (a) the words “Circular No. 570 (refer to paragraph (c) of this section)” and adding in their place the words “Circular 570, Companies Holding Certificates of Authority as Acceptable Sureties on Federal Bonds and as Acceptable Reinsuring Companies, as revised (see paragraph (c) of this section)”;

b. In the second sentence of paragraph (b) removing the word “he” and adding in its place the words “he or she”;

c. Revising paragraph (c); and

d. Removing the authority citation at the end of the section.

The revision reads as follows:

§ 46.11 Corporate surety.

* * * * *

(c) Treasury Department Circular 570 is published in the Federal Register annually on the first business day in July, and supplemental changes are published periodically thereafter (see https://www.federalregister.gov). The most recent circular and any supplemental changes to it may be viewed on the Bureau of the Fiscal Service website (see https://fiscal.treasury.gov).

114. Amend § 46.72 by:

a. Revising the definition of “Commissioner of Customs”; and

b. In the definition of “Tax paid or determined”, removing the word “acutally” and adding in its place the word “actually”.

The revision reads as follows:

§ 46.72 Meaning of terms.

* * * * *

Commissioner of Customs. The Commissioner of U.S. Customs and Border Protection, Department of Homeland Security, Washington, DC.

* * * * *

PART 53—MANUFACTURERS EXCISE TAXES—FIREARMS AND AMMUNITION

115. The authority citation for part 53 continues to read as follows:

Authority: 26 U.S.C. 4181, 4182, 4216-4219, 4221-4223, 4225, 6001, 6011, 6020, 6021, 6061, 6071, 6081, 6091, 6101-6104, 6109, 6151, 6155, 6161, 6301-6303, 6311, 6402, 6404, 6416, 7502, 7805.

§ § 53.20, 53.21, 53.132, 53.133, 53.134, 53.135, and 53.179 [Amended]

116. In the following table, for each section indicated in the left column, remove the text indicated in the middle column from wherever it appears in the section and add in its place, the text indicated in the right column:

Section | Remove | Add
53.20 | http://www.ttb.gov | https://www.ttb.gov.
53.20 | Room 1516 | Room 8970.
53.21(b) | http://www.ttb.gov | https://www.ttb.gov.
53.21(b) | Room 1516 | Room 8970.
53.132(c)(2)(iii), 3 times | TTB I | TTB F.
53.133(d)(4), 3 times | TTB I | TTB F.
53.134(d)(2)(iv), 3 times | TTB I | TTB F.
53.135(c)(3), 3 times | TTB I | TTB F.
53.179(b)(1)(iv), 2 times | TTB I | TTB F.

117. Amend § 53.3 by revising the third sentence to read as follows:

§ 53.3 Exemption certificates.

* * * These certificates are available as preprinted forms, which are available for free download on the TTB website at https://www.ttb.gov/forms, or by request sent via postal mail to the Alcohol and Tobacco Tax and Trade Bureau, National Revenue Center, 550 Main Street, Room 8970, Cincinnati, OH 45202. * * *.

118. Amend § 53.11:

a. In the second sentence of the definition of “Importer” by removing the words “his sale” and adding in their place the words “their sale”; and

b. Removing the definition of “Secretary” and adding a definition for “Secretary of the Treasury or Secretary” in its place.

The revision reads as follows:

§ 53.11 Meaning of terms.

* * * * *

Secretary of the Treasury or Secretary. The Secretary of the Treasury or a delegate of the Secretary.

* * * * *

PART 70—PROCEDURE AND ADMINISTRATION

119. The authority citation for part 70 is revised to read as follows:

Authority: 5 U.S.C. 301 and 552; 26 U.S.C. 4181, 4182, 5123, 5203, 5207, 5275, 5367, 5415, 5504, 5555, 5684(a), 5741, 5761(b), 5802, 6020, 6021, 6064, 6102, 6109, 6155, 6159, 6201, 6203, 6204, 6301, 6303, 6311, 6313, 6314, 6321, 6323, 6325, 6326, 6331-6343, 6401-6404, 6407, 6416, 6423, 6501-6503, 6511, 6513, 6514, 6532, 6601, 6602, 6611, 6621, 6622, 6651, 6653, 6656-6658, 6665, 6671, 6672, 6701, 6723, 6801, 6862, 6863, 6901, 7011, 7101, 7102, 7121, 7122, 7207, 7209, 7214, 7304, 7401, 7403, 7406, 7423, 7424, 7425, 7426, 7429, 7430, 7432, 7502, 7503, 7505, 7506, 7513, 7601-7606, 7608-7610, 7622, 7623, 7653, 7805.

§ § 70.2, 70.3, 70.33, 70.96, 70.123, 70.125, 70.143, 70.161, 70.163, 70.164, 70.181, 70.183, 70.185, 70.186, 70.187, 70.203, 70.205, 70.209, 70.232, 70.242, 70.245, 70.251, 70.471, 70.482, 70.701, and 70.803 [Amended]

120. In the following table, for each section indicated in the left column, remove the text indicated in the middle column from wherever it appears in the section and add in its place the text indicated in the right column:

Section | Remove | Add
70.2(b) | http://www.ttb.gov | https://www.ttb.gov.
70.2(b) | Room 1516 | Room 8970.
70.3 | http://www.ttb.gov | https://www.ttb.gov.
70.3 | Room 1516 | Room 8970.
70.33(c) | his presence | their presence.
70.33(c) | if he has | if they have.
70.96(a)(1)(iv), in the second sentence | 5 percent therof | 5 percent thereof.
70.123(d), in the first sentence | the individuals | the individual's.
70.125(b), in the second sentence | Form 2635 (5020.8), | form TTB F 5620.8,.
70.143(a)(1) introductory text | exists ay any | exists at any.
70.161(c), in the fifth sentence | designated ofice | designated office.
70.163(a)(2)(ii)(B) | U.S. court a the time | U.S. court at the time.
70.164(c), in the second sentence | orginzation | organization.
70.181(c)(8), in the last sentence | whatsover | whatsoever.
70.183(b)(5), in the first sentence | cae of default | case of default.
70.185(a), in the first sentence | puchaser's | purchaser.
70.186(a) introductory text | such sale. | such sale:.
70.186(a)(5) | such tranfer | such transfer.
70.186(c), in the second sentence | purhcaser | purchaser.
70.187(a), in the last sentence | orginal | original.
70.203(b)(3) | palce provided | place provided.
70.205(a)(2)(i), in the second sentence | forclosure | foreclosure.
70.205(a)(2)(ii) heading | noitce | notice.
70.205(b)(2), in the last sentence | noitice | Notice.
70.205(e)(1) introductory text | a noitice | a notice.
70.209(b) | subsequenbtly | subsequently.
70.232(d), in the seventh sentence | Indentifiable | Identifiable.
70.242(c)(2), in the fourth sentence | acompany | Accompany.
70.242(c)(2), in the sixth sentence | diretly | directly.
70.245(d), in the paragraph heading | form | from.
70.471(c) | http://www.atf.gov/contact/ | https://www.atf.gov/contact.
70.482(a)(2) | collectibility | collectability.
70.701(c), in the fifth sentence | Washington, DC 20220 | 1310 G Street NW, Box 12, Washington, DC 20005.
70.701(d)(2)(iv)(B), in the first sentence | by his office | by her or his office.
70.701(d)(2)(iv(B), in the second sentence | by his office | by her or his office.
70.803(b)(1) | his delegate | a delegate of the Secretary.
70.803(b)(2) (2 times) | his official | their official.
70.803(e)(3), in the first sentence | an TTB officer | a TTB officer.

121. Amend § 70.11 by removing the definition of “Secretary” and adding a definition for “Secretary of the Treasury or Secretary” in its place to read as follows:

§ 70.11 Meaning of terms.

* * * * *

Secretary of the Treasury or Secretary. The Secretary of the Treasury or a delegate of the Secretary.

* * * * *

§ 70.251 [Amended]

122. Amend § 70. 251 by:

a. Redesignating paragraph (c) as paragraph (c)(1), redesignating paragraphs (c)(1) through (4) as paragraphs (c)(1)(i) through (c)(1)iv), and redesignating the undesignated paragraph following newly redesignated paragraph (c)(1)(iv) as paragraph (c)(2); and

b. In newly designated paragraph (c)(2), remove the word “monthes” and add in its place the word “months”.

§ 70.431 [Amended]

123. Amend § 70.431 by removing the authority citation at the end of the section.

§ 70.433 [Amended]

124. Amend § 70.433 by removing the authority citation at the end of the section.

125. Amend § 70.601 by revising the definition of “Commissioner of Customs” to read as follows:

§ 70.601 Meaning of terms.

* * * * *

Commissioner of Customs. The Commissioner of U.S. Customs and Border Protection, Department of Homeland Security, Washington, DC.

* * * * *

126. Revise § 70.801 to read as follows:

§ 70.801 Publicity of information.

For information relating to the disclosure of records that is not contained in this subpart, see 31 CFR part 1 and the appendix of that part relating to the Alcohol and Tobacco Tax and Trade Bureau. Direct further questions to the Alcohol and Tobacco Tax and Trade Bureau, 1310 G Street, Box 12, Washington, DC 20005; telephone (202) 453-2265.

§ 70.802 [Amended]

127. Amend § 70.802 by:

a. Removing from the first sentence of paragraph (a) the words “ATF officer, Bureau of Alcohol, Tobacco and Firearms, Washington, DC 20226” and adding in their place the words “TTB officer, Alcohol and Tobacco Tax and Trade Bureau, 1310 G Street NW, Box 12, Washington, DC 20005”;

b. Removing form the first sentence of paragraph (d) the words “Washington, DC 20220” and adding in their place the words “1310 G Street NW, Box 12, Washington, DC 20005”;

c. Removing from the first sentence of paragraph (f) the words “Washington, DC 20220” and adding in their place the words “1310 G Street NW, Box 12, Washington, DC 20005”;

d. Removing from paragraph (g)(1) the text “Web site at http://www.regulations.gov” and adding in their place the text “website at https://www.regulations.gov”;

e. Removing from the third sentence of paragraph (g)(2) the words “Washington, DC 20220, or by telephone at 202-453-2270” and adding in their place the words “1310 G Street NW, Box 12, Washington, DC 20005 or by telephone at 202-453-2265”; and

f. Removing the authority citation at the end of the section.

PART 71—RULES OF PRACTICE IN PERMIT PROCEEDINGS

128. The authority citation for part 71 is revised to read as follows:

Authority: 5 U.S.C. 551-559, 26 U.S.C. 5171, 5181, 5271, 5712, 5713, 7805, 27 U.S.C. 204.

§ § 71.2, 71.3, 71.4, 71.5, 71.27, 71.29, 71.31, 71.49a, 71.85, and 71.115 [Amended]

129. In the following table, for each section indicated in the left column, remove the text indicated in the middle column from wherever it appears in the section and add in its place the text indicated in the right column:

Section | Remove | Add
71.2, in the first sentence | contrued | construed.
71.3(b) | http://www.ttb.gov | https://www.ttb.gov.
71.3(b) | Room 1516 | Room 8970.
71.4 | http://www.ttb.gov | https://www.ttb.gov.
71.4 | Room 1516 | Room 8970.
71.5, in the definition of “Other term” | (5 U.S.C. 1001) | (5 U.S.C. 551).
71.27 | him | him or her.
71.29 | him | him or her.
71.31, in the last sentence | authorize to | authorized to.
71.49a(b) | Administrator | administrator.
71.85 | pending before him, in his discretion | pending before that official, in his or her discretion.
71.115, in the last sentence | his consideration | his or her consideration.

130. Revise § 71.96 to read as follows:

§ 71.96 Disqualification.

An administrative law judge shall, at any time, withdraw from any proceeding if he or she deems him or herself disqualified; and upon the filing in good faith by the applicant or respondent, or by the attorney for the Government, of a timely and sufficient affidavit of facts showing personal bias or otherwise warranting the disqualification of any administrative law judge, the Administrator shall upon appeal as provided in § 71.115, if the administrative law judge fails to disqualify him or herself, determine the matter as a part of the record and decision in the proceeding. If the Administrator decides the administrative law judge should have declared him or herself disqualified, the Administrator will remand the record for hearing de novo before another administrative law judge. If the Administrator should decide against the disqualification of the administrative law judge, the proceeding will be reviewed on its merits.

131. Revise § 71.97 to read as follows:

§ 71.97 Powers.

Administrative law judges shall have authority to:

(a) Administer oaths and affirmations;

(b) Issue subpoenas authorized by law;

(c) Rule upon offers of proof and receive relevant evidence;

(d) Take or cause depositions to be taken whenever the ends of justice would be served thereby;

(e) Regulate the course of the hearing;

(f) Hold conferences for the settlement or simplification of the issues by consent of the parties;

(g) Dispose of procedural requests or similar matters;

(h) Render recommended decisions in proceedings on applications for permits, and initial decisions in suspension, revocation, or annulment proceedings against permits;

(i) Call, examine and cross-examine witnesses, including hostile or adverse witnesses when they deem such action to be necessary to a just disposition of the cause, and introduce into the record documentary or other evidence; and

(j) Take any other action authorized by rule of the Alcohol and Tobacco Tax and Trade Bureau consistent with the Administrative Procedure Act.

132. Revise § 71.116 to read as follows:

§ 71.116 Review by the Administrator

The Administrator, on appeal on petition for review, shall afford a reasonable opportunity for the submission of proposed findings, conclusions, or exceptions with reasons in support thereof and an opportunity for oral argument. The Administrator may alter or modify any finding of the administrative law judge (or of the appropriate TTB officer in application proceedings) and may affirm, reverse, or modify the decision of the administrative law judge (or of the appropriate TTB officer in initial application proceedings), or the Administrator may remand the case for further hearing, but the Administrator shall not consider evidence which is not a part of the record. Appeals and petitions for review shall not be decided by the Administrator in any proceeding in which she or he has engaged in investigation or prosecution, and in such event the Administrator shall so state their disqualification in writing and refer the record to the Assistant Secretary for Tax Policy for appropriate action. The Assistant Secretary for Tax Policy may designate a principal aide to consider any proceeding instead of the Administrator. The original copy of the decision on review shall be placed in the official record of the proceeding, a signed duplicate original shall be served upon the applicant or respondent and a copy shall be transmitted to the appropriate TTB officer. When, on appeal, the Administrator affirms the decision of the appropriate TTB officer or the administrative law judge, as the case may be, disapproving an application or suspending, revoking, or annulling a permit, such action shall not supersede the decision of the appropriate TTB officer or the administrative law judge and such decision shall be final.

PART 72—DISPOSITION OF SEIZED PERSONAL PROPERTY

133. The authority citation for part 72 continues to read as follows:

Authority: 18 U.S.C. 921, 1261; 19 U.S.C. 1607, 1610, 1612, 1613, 1618; 26 U.S.C. 7101, 7322-7325, 7326, 7805; 31 U.S.C. 9301, 9303, 9304, 9306; 40 U.S.C. 304(k); 49 U.S.C. 784, 788.

134. Amend § 72.24 by:

a. Removing from in paragraph (a) the words “Circular No. 570” and adding in their place the words “Circular 570”;

b. Revising paragraph (b); and

c. Removing the authority citation at the end of the section.

The revision reads as follows:

§ 72.24 Corporate surety bonds.

* * * * *

(b) How to find an approved surety. The Department of the Treasury publishes a list of approved corporate surety companies in Treasury Department Circular 570, Companies Holding Certificates of Authority as Acceptable Sureties on Federal Bonds and as Acceptable Reinsuring Companies. Treasury Department Circular 570 is published in the Federal Register annually on the first business day in July, and supplemental changes are published periodically thereafter (see https://www.federalregister.gov). The most recent circular and any supplemental changes to it may be viewed on the Bureau of the Fiscal Service website (see https://fiscal.treasury.gov).

§ 72.27 [Amended]

135. Amend § 72.27, in the first sentence of paragraph (a), by removing the text “§ 55.166 of this Title” and adding in its place the text “27 CFR 555.166”.

Signed: October 4, 2024.
Mary G. Ryan,
Administrator.
Approved: October 7, 2024.
Aviva R. Aron-Dine,
Deputy Assistant Secretary, Tax Policy.

[FR Doc. 2024-23662 Filed 11-5-24; 8:45 am]

BILLING CODE 4810-31-P